FEDERAL COMMUNICATIONS COMMISSION

47 CFR Ch. I

Unified Agenda of Federal Regulatory and Deregulatory Actions—Fall 2014

AGENCY: Federal Communications Commission.

ACTION: Semiannual regulatory agenda.

SUMMARY: Twice a year, in spring and fall, the Commission publishes in the Federal Register a list in the Unified Agenda of those major items and other significant proceedings under development or review that pertain to the Regulatory Flexibility Act (U.S.C. 602). The Unified Agenda also provides the Code of Federal Regulations citations and legal authorities that govern these proceedings. The complete Unified Agenda will be published on the Internet in a searchable format at www.reginfo.gov.

ADDRESSES: Federal Communications Commission, 445 12th Street SW., Washington, DC 20554.

FOR FURTHER INFORMATION CONTACT: Maura McGowan, Telecommunications Specialist, Federal Communications Commission, 445 12th Street SW., Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 96-1 or Docket No. 99-1). The abbreviation for the responsible bureau usually precedes the docket number, as in “MB Docket No. 96-222,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
448 | Implementation of the Telecom Act of 1996; Access to Telecommunications Service, Telecommunications Equipment, and Customer Premises Equipment by Persons With Disabilities (WT Docket No. 96-198) | 3060-AG58
449 | Rules and Regulations Implementing the Telephone Consumer Protection Act (TCPA) of 1991 (CG Docket No. 02-278) | 3060-AI14
450 | Rules and Regulations Implementing Section 225 of the Communications Act (Telecommunications Relay Service) (CG Docket No. 03-123) | 3060-AI15
451 | Consumer Information and Disclosure and Truth in Billing and Billing Format | 3060-AI61
452 | Closed-Captioning of Video Programming (Section 610 Review) | 3060-AI72
453 | Accessibility of Programming Providing Emergency Information | 3060-AI75
454 | Empowering Consumers to Avoid Bill Shock (Docket No. 10-207) | 3060-AJ51
455 | Contributions to the Telecommunications Relay Services Fund (CG Docket No. 11-47) | 3060-AJ63
456 | Empowering Consumers to Prevent and Detect Billing for Unauthorized Charges (“Cramming”) | 3060-AJ72
457 | Implementation of the Middle Class Tax Relief and Job Creation Act of 2012/Establishment of a Public Safety Answering Point Do-Not-Call Registry | 3060-AJ84
458 | Implementation of Sections 716 and 717 of the Communications Act of 1934, as Enacted by the Twenty-First Century Communications and Video Accessibility Act of 2010 (CG Docket No. 10-213) | 3060-AK00
459 | Misuse of Internet Protocol (IP) Captioned Telephone Service; Telecommunications Relay Services and Speech-to-Speech Services | 3060-AK01

Office of Engineering and Technology—Long-Term Actions
Sequence No. | Title | Regulation Identifier No.
460 | New Advanced Wireless Services (ET Docket No. 00-258) | 3060-AH65
461 | Exposure to Radiofrequency Electromagnetic Fields | 3060-AI17
462 | Unlicensed Operation in the TV Broadcast Bands (ET Docket No. 04-186) | 3060-AI52
463 | Fixed and Mobile Services in the Mobile Satellite Service (ET Docket No. 10-142) | 3060-AJ46
464 | Innovation in the Broadcast Television Bands (ET Docket No. 10-235) | 3060-AJ57
465 | Radio Experimentation and Market Trials Under Part 5 of the Commission's Rules and Streamlining Other Related Rules (ET Docket No. 10-236) | 3060-AJ62
466 | Operation of Radar Systems in the 76-77 GHz Band (ET Docket No. 11-90) | 3060-AJ68
467 | WRC-07 Implementation (ET Docket No. 12-338) | 3060-AJ93
468 | Federal Earth Stations-Non Federal Fixed Satellite Service Space Stations; Spectrum for Non-Federal Space Launch Operations; ET Docket No. 13-115 | 3060-AK09
469 | Authorization of Radiofrequency Equipment; ET Docket No. 13-44 | 3060-AK10

International Bureau—Long-Term Actions
Sequence No. | Title | Regulation Identifier No.
470 | Space Station Licensing Reform (IB Docket No. 02-34) | 3060-AH98
471 | Reporting Requirements for U.S. Providers of International Telecommunications Services (IB Docket No. 04-112) | 3060-AI42
472 | International Settlements Policy Reform (IB Docket No. 11-80) | 3060-AJ77
473 | Revisions to Parts 2 and 25 of the Commission's Rules to Govern the Use of Earth Stations Aboard Aircraft (IB Docket No. 12-376) | 3060-AJ96
474 | Reform of Rules and Policies on Foreign Carrier Entry Into the U.S. Telecommunications Market (IB Docket 12-299) | 3060-AJ97
475 | Comprehensive Review of Licensing and Operating Rules for Satellite Services (IB Docket No. 12-267) | 3060-AJ98
476 | Expanding Broadband and Innovation through Air-Ground Mobile Broadband Secondary Service for Passengers Aboard Aircraft in the 14.0-14.5 GHz Band; GN Docket No. 13-114 | 3060-AK02
477 | Terrestrial Use of the 2473-2495 MHz Band for Low-Power Mobile Broadband Networks; Amendments to Rules of Mobile Satellite Service System; IB Docket No. 13-213 | 3060-AK16

International Bureau—Completed Actions
Sequence No. | Title | Regulation Identifier No.
478 | Review of Foreign Ownership Policies for Common Carrier and Aeronautical Radio Licensees Under Section 310(b)(4) of the Communications Act of 1934, as Amended (IB Docket No. 11-133) | 3060-AJ70

Media Bureau—Long-Term Actions
Sequence No. | Title | Regulation Identifier No.
479 | Competitive Availability of Navigation Devices (CS Docket No. 97-80) | 3060-AG28
480 | Broadcast Ownership Rules | 3060-AH97
481 | Establishment of Rules for Digital Low-Power Television, Television Translator, and Television Booster Stations (MB Docket No. 03-185) | 3060-AI38
482 | Joint Sales Agreements in Local Television Markets (MB Docket No. 04-256) | 3060-AI55
483 | Promoting Diversification of Ownership in the Broadcast Services (MB Docket No. 07-294) | 3060-AJ27
484 | Amendment of the Commission's Rules Related to Retransmission Consent (MB Docket No. 10-71) | 3060-AJ55
485 | Video Description: Implementation of the Twenty-First Century Communications and Video Accessibility Act of 2010 (MB Docket No.11-43) | 3060-AJ56
486 | Closed Captioning of Internet Protocol-Delivered Video Programming: Implementation of the Twenty-First Century Communications and Video Accessibility Act of 2010 (MB Docket No. 11-154) | 3060-AJ67
487 | Accessibility of User Interfaces and Video Programming Guides and Menus (MB Docket No. 12-108) | 3060-AK11
488 | Network Non-Duplication and Syndicated Exclusivity Rule (MB Docket No. 14-29) | 3060-AK18

Office of Managing Director—Long-Term Actions
Sequence No. | Title | Regulation Identifier No.
489 | Assessment and Collection of Regulatory Fees | 3060-AI79
490 | Amendment of Part 1 of the Commission's Rules, Concerning Practice and Procedure, Amendment of CORES Registration System; MD Docket No. 10-234 | 3060-AJ54

Public Safety and Homeland Security Bureau—Long-Term Actions
Sequence No. | Title | Regulation Identifier No.
491 | Revision of the Rules To Ensure Compatibility With Enhanced 911 Emergency Calling Systems | 3060-AG34
492 | Enhanced 911 Services for Wireline | 3060-AG60
493 | In the Matter of the Communications Assistance for Law Enforcement Act | 3060-AG74
494 | Implementation of 911 Act (CC Docket No. 92-105, WT Docket No. 00-110) | 3060-AH90
495 | E911 Requirements for IP-Enabled Service Providers (Dockets Nos. GN 11-117, PS 07-114, WC 05-196, WC 04-36) | 3060-AI62
496 | Commercial Mobile Alert System | 3060-AJ03
497 | Wireless E911 Location Accuracy Requirements; PS Docket No. 07-114 | 3060-AJ52
498 | Private Land Radio Services/Miscellaneous Wireless Communications Services | 3060-AJ99
499 | Proposed Amendments to Service Rules Governing Public Safety Narrowband Operations in the 769-775 and 799-805 MHz Bands | 3060-AK19

Public Safety and Homeland Security Bureau—Completed Actions
Sequence No. | Title | Regulation Identifier No.
500 | Development of Operational, Technical, and Spectrum Requirements for Public Safety Communications Requirements | 3060-AG85

Wireless Telecommunications Bureau—Long-Term Actions
Sequence No. | Title | Regulation Identifier No.
501 | Reexamination of Roaming Obligations of Commercial Mobile Radio Service Providers | 3060-AH83
502 | Review of Part 87 of the Commission's Rules Concerning Aviation (WT Docket No. 01-289) | 3060-AI35
503 | Implementation of the Commercial Spectrum Enhancement Act (CSEA) and Modernization of the Commission's Competitive Bidding Rules and Procedures (WT Docket No. 05-211) | 3060-AI88
504 | Facilitating the Provision of Fixed and Mobile Broadband Access, Educational, and Other Advanced Services in the 2150-2162 and 2500-2690 MHz Bands | 3060-AJ12
505 | Amendment of the Rules Regarding Maritime Automatic Identification Systems (WT Docket No. 04-344) | 3060-AJ16
506 | Service Rules for Advanced Wireless Services in the 2155-2175 MHz Band; WT Docket No. 13-185 | 3060-AJ19
507 | Rules Authorizing the Operation of Low Power Auxiliary Stations in the 698-806 MHz Band (WT Docket No. 08-166) Public Interest Spectrum Coalition, Petition for Rulemaking Regarding Low Power Auxiliary | 3060-AJ21
508 | Amendment of the Commission's Rules to Improve Public Safety Communications in the 800 MHz Band, and to Consolidate the 800 MHz and 900 MHz Business and Industrial/Land Transportation Pool Channels | 3060-AJ22
509 | Amendment of Part 101 to Accommodate 30 MHz Channels in the 6525-6875 MHz Band and Provide Conditional Authorization on Channels in the 21.8-22.0 and 23.0-23.2 GHz Band (WT Docket No. 04-114) | 3060-AJ28
510 | In the Matter of Service Rules for the 698 to 746, 747 to 762, and 777 to 792 MHz Bands | 3060-AJ35
511 | National Environmental Act Compliance for Proposed Tower Registrations; In the Matter of Effects on Migratory Birds | 3060-AJ36
512 | Amendment of Part 90 of the Commission's Rules | 3060-AJ37
513 | Amendment of Part 101 of the Commission's Rules for Microwave Use and Broadcast Auxiliary Service Flexibility | 3060-AJ47
514 | 2004 and 2006 Biennial Regulatory Reviews—Streamlining and Other Revisions of the Commission's Rules Governing Construction, Marking, and Lighting of Antenna Structures | 3060-AJ50
515 | Universal Service Reform Mobility Fund (WT Docket No. 10-208) | 3060-AJ58
516 | Fixed and Mobile Services in the Mobile Satellite Service Bands at 1525-1559 MHz and 1626.5-1660.5 MHz, 1610-1626.5 MHz and 2483.5-2500 MHz, and 2000-2020 MHz and 2180-2200 MHz | 3060-AJ59
517 | Improving Spectrum Efficiency Through Flexible Channel Spacing and Bandwidth Utilization for Economic Area-Based 800 MHz Specialized Mobile Radio Licensees (WT Docket Nos. 12-64 and 11-110) | 3060-AJ71
518 | Service Rules for Advanced Wireless Services in the 2000-2020 MHz and 2180-2200 MHz Bands | 3060-AJ73
519 | Promoting Interoperability in the 700 MHz Commercial Spectrum; Requests for Waiver and Extension of Lower 700 MHz Band Interim Construction Benchmark Deadlines (WT Docket Nos. 12-69 & 12-332) | 3060-AJ78
520 | Service Rules for Advanced Wireless Services of the Middle Class Tax Relief and Job Creation Act of 2012 Related to the 1915-1920 MHz and 1995-2000 MHz Bands (WT Docket No. 12-357) | 3060-AJ86
521 | Amendment of Parts 1, 2, 22, 24, 27, 90 and 95 of the Commission's Rules to Improve Wireless Coverage Through the Use of Signal Boosters (WT Docket No. 10-4) | 3060-AJ87
522 | Amendment of the Commission's Rules Governing Certain Aviation Ground Station Equipment (Squitter) (WT Docket Nos. 10-61 and 09-42) | 3060-AJ88
523 | Amendment of the Commission's Rules Concerning Commercial Radio Operators (WT Docket No. 10-177) | 3060-AJ91
524 | Radiolocation Operations in the 78-81 GHz Band; WT Docket No. 11-202 | 3060-AK04
525 | Amendment of Part 90 of the Commission's Rules to Permit Terrestrial Trunked Radio (TETRA) Technology; WT Docket No. 11-6 | 3060-AK05
526 | Promoting Technological Solutions to Combat Wireless Contraband Device Use in Correctional Facilities | 3060-AK06

Wireless Telecommunications Bureau—Completed Actions
Sequence No. | Title | Regulation Identifier No.
527 | Service Rules for Advanced Wireless Services in the 1915 to 1920 MHz, 1995 to 2000 MHz, 2020 to 2025 MHz, and 2175 to 2180 MHz Bands | 3060-AJ20

Wireline Competition Bureau—Proposed Rule Stage
Sequence No. | Title | Regulation Identifier No.
528 | Comprehensive Review of the Part 32 Uniform System of Accounts (WC Docket No. 14-130) | 3060-AK20

Wireline Competition Bureau—Long-Term Actions
Sequence No. | Title | Regulation Identifier No.
529 | Implementation of the Universal Service Portions of the 1996 Telecommunications Act | 3060-AF85
530 | 2000 Biennial Regulatory Review—Telecommunications Service Quality Reporting Requirements | 3060-AH72
531 | Access Charge Reform and Universal Service Reform | 3060-AH74
532 | National Exchange Carrier Association Petition | 3060-AI47
533 | IP-Enabled Services; WC Docket No. 04-36 | 3060-AI48
534 | Establishing Just and Reasonable Rates for Local Exchange Carriers (WC Docket No. 07-135) | 3060-AJ02
535 | Jurisdictional Separations | 3060-AJ06
536 | Service Quality, Customer Satisfaction, Infrastructure and Operating Data Gathering (WC Docket Nos. 08-190, 07-139, 07-204, 07-273, 07-21) | 3060-AJ14
537 | Form 477; Development of Nationwide Broadband Data To Evaluate Reasonable and Timely Deployment of Advanced Services to All Americans | 3060-AJ15
538 | Preserving the Open Internet; Broadband Industry Practices | 3060-AJ30
539 | Local Number Portability Porting Interval and Validation Requirements (WC Docket No. 07-244) | 3060-AJ32
540 | Electronic Tariff Filing System (WC Docket No. 10-141) | 3060-AJ41
541 | Implementation of Section 224 of the Act; A National Broadband Plan for Our Future (WC Docket No. 07-245, GN Docket No. 09-51) | 3060-AJ64
542 | Rural Call Completion; WC Docket No. 13-39 | 3060-AJ89
543 | Rates for Inmate Calling Services; WC Docket No. 12-375 | 3060-AK08
544 | Protecting and Promoting the Open Internet; (WC Docket No. 14-28) | 3060-AK21

FEDERAL COMMUNICATIONS COMMISSION (FCC)

Consumer and Governmental Affairs Bureau

Long-Term Actions

448. Implementation of the Telecom Act of 1996; Access to Telecommunications Service, Telecommunications Equipment, and Customer Premises Equipment by Persons With Disabilities (WT Docket No. 96-198)

Legal Authority: 47 U.S.C. 255; 47 U.S.C. 251(a)(2)

Abstract: These proceedings implement the provisions of sections 255 and 251(a)(2) of the Communications Act and related sections of the Telecommunications Act of 1996 regarding the accessibility of telecommunications equipment and services to persons with disabilities.

Timetable:

Action | Date | FR Cite
R&O | 08/14/96 | 61 FR 42181
NOI | 09/26/96 | 61 FR 50465
NPRM | 05/22/98 | 63 FR 28456
R&O | 11/19/99 | 64 FR 63235
Further NOI | 11/19/99 | 64 FR 63277
Public Notice | 01/07/02 | 67 FR 678
R&O | 08/06/07 | 72 FR 43546
Petition for Waiver | 11/01/07 | 72 FR 61813
Public Notice | 11/01/07 | 72 FR 61882
Final Rule | 04/21/08 | 73 FR 21251
Public Notice | 08/01/08 | 73 FR 45008
Extension of Waiver | 05/15/08 | 73 FR 28057
Extension of Waiver | 05/06/09 | 74 FR 20892
Public Notice | 05/07/09 | 74 FR 21364
Extension of Waiver | 07/29/09 | 74 FR 37624
NPRM | 03/14/11 | 76 FR 13800
NPRM Comment Period Extended | 04/12/11 | 76 FR 20297
FNPRM | 12/30/11 | 76 FR 82240
Comment Period End | 03/14/12 |
R&O | 12/30/11 | 76 FR 82354
Announcement of Effective Date | 04/25/12 | 77 FR 24632
2nd R&O | 05/22/13 | 78 FR 30226
FNPRM | 12/20/13 | 78 FR 77074
FNPRM Comment Period End | 02/18/14 |
Next Action Undetermined

Regulatory Flexibility Analysis Required: Yes.

Agency Contact: Cheryl J. King, Deputy Chief, Disability Rights Office, Federal Communications Commission, Consumer and Governmental Affairs Bureau, 445 12th Street SW., Washington, DC 20554, Phone: 202 418-2284, TDD Phone: 202 418-0416, Fax: 202 418-0037, Email: cheryl.king@fcc.gov.

RIN: 3060-AG58

449. Rules and Regulations Implementing the Telephone Consumer Protection Act (TCPA) of 1991 (CG Docket No. 02-278)

Legal Authority: 47 U.S.C. 227

Abstract: On July 3, 2003, the Commission released a Report and Order establishing, along with the FTC, a national do-not-call registry. The Commission's Report and Order also adopted rules on the use of predictive dialers, the transmission of caller ID information by telemarketers, and the sending of unsolicited fax advertisements. On September 21, 2004, the Commission released an Order amending existing safe harbor rules for telemarketers subject to the do-not-call registry to require such telemarketers to access the do-not-call list every 31 days, rather than every 3 months. On April 5, 2006, the Commission adopted a Report and Order and Third Order on Reconsideration amending its facsimile advertising rules to implement the Junk Fax Protection Act of 2005. On October 14, 2008, the Commission released an Order on Reconsideration addressing certain issues raised in petitions for reconsideration and/or clarification of the Report and Order and Third Order on Reconsideration. On January 4, 2008, the Commission released a Declaratory Ruling, clarifying that autodialed and prerecorded message calls to wireless numbers that are provided by the called party to a creditor in connection with an existing debt are permissible as calls made with the “prior express consent” of the called party. Following a December 4, 2007, NPRM, on June 17, 2008, the Commission released a Report and Order amending its rules to require sellers and/or telemarketers to honor registrations with the National Do-Not-Call Registry indefinitely, unless the registration is cancelled by the consumer or the number is removed by the database administrator. Following a January 22, 2010, NPRM, the Commission released a Report and Order (on February 15, 2012) requiring telemarketers to obtain prior express written consent, including by electronic means, before making an autodialed or prerecorded telemarketing call to a wireless number or before making a prerecorded telemarketing call to a residential line; eliminating the “established business relationship” exemption to the consent requirement for prerecorded telemarketing calls to residential lines; requiring telemarketers to provide an automated, interactive “opt-out” mechanism during autodialed or prerecorded telemarketing calls to wireless numbers and during prerecorded telemarketing calls to residential lines; and requiring that the abandoned call rate for telemarketing calls be calculated on a “per-campaign” basis. On November 29, 2012, the Commission released a Declaratory Ruling clarifying that sending a one-time text message confirming a consumer's request that no further text messages be sent does not violate the Telephone Consumer Protection Act (TCPA) or the Commission's rules as long as the confirmation text only confirms receipt of the consumer's opt-out request, and does not contain marketing, solicitations, or an attempt to convince the consumer to reconsider his or her opt-out decision. The ruling applies only when the sender of the text messages has obtained prior express consent, as required by the TCPA and Commission rules, from the consumer to be sent text messages using an automatic telephone dialing system. On May 9, 2013, the Commission released a declaratory ruling clarifying that while a seller does not generally “initiate” calls made through a third-party telemarketer, within the meaning of the Telephone Consumer Protection Act (TCPA), it nonetheless may be held vicariously liable under Federal common law principles of agency for violations of either section 227(b) or section 227(c) that are committed by third-party telemarketers.

Timetable:

Action | Date | FR Cite
NPRM | 10/08/02 | 67 FR 62667
FNPRM | 04/03/03 | 68 FR 16250
Order | 07/25/03 | 68 FR 44144
Order Effective | 08/25/03 |
Order on Recon | 08/25/03 | 68 FR 50978
Order | 10/14/03 | 68 FR 59130
FNPRM | 03/31/04 | 69 FR 16873
Order | 10/08/04 | 69 FR 60311
Order | 10/28/04 | 69 FR 62816
Order on Recon | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Recon | 10/30/08 | 73 FR 64556
NPRM | 03/22/10 | 75 FR 13471
R&O | 06/11/12 | 77 FR 34233
Public Notice | 06/30/10 | 75 FR 34244
Public Notice (Recon Petitions Filed) | 10/03/12 | 77 FR 60343
Announcement of Effective Date | 10/16/12 | 77 FR 63240
Opposition End Date | 10/18/12 |
Rule Corrections | 11/08/12 | 77 FR 66935
Declaratory Ruling (Release Date) | 11/29/12 |
Next Action Undetermined

Regulatory Flexibility Analysis Required: Yes.

Agency Contact: Kurt Schroeder, Chief, Consumer Policy Division, Federal Communications Commission, Consumer and Governmental Affairs Bureau, 445 12th Street SW., Washington, DC 20554, Phone: 202 418-0966, Email: kurt.schroeder@fcc.gov.

RIN: 3060-AI14

450. Rules and Regulations Implementing Section 225 of the Communications Act (Telecommunications Relay Service) (CG Docket No. 03-123)

Legal Authority: 47 U.S.C. 151; 47 U.S.C. 154; 47 U.S.C. 225

Abstract: This proceeding established a new docket flowing from the previous telecommunications relay service (TRS) history, CC Docket No. 98-67. This proceeding continues the Commission's inquiry into improving the quality of TRS and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Recon | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Recon | 08/31/05 | 70 FR 51643
R&O | 08/31/05 | 70 FR 51649
Order | 09/14/05 | 70 FR 54294
Order | 09/14/05 | 70 FR 54298
Public Notice | 10/12/05 | 70 FR 59346
R&O/Order on Recon | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Recon | 07/06/06 | 71 FR 38268
Order on Recon | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Recon | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10 |
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13 |
FNPRM | 07/05/13 | 78 FR 40407
FNPRM Comment Period End | 09/18/13 |
R&O | 07/05/13 | 78 FR 40582
R&O | 08/15/13 | 78 FR 49693
FNPRM | 08/15/13 | 78 FR 49717
FNPRM Comment Period End | 09/30/13 |
R&O | 08/30/13 | 78 FR 53684
FNPRM | 09/03/13 | 78 FR 54201
NPRM | 10/23/13 | 78FR 63152
FNPRM Comment Period End | 11/18/13 |
Petiton for Recon; Request for Comment | 12/16/13 | 78 FR 76096
Petition for Recon Request for Comment | 12/16/13 | 78 FR 76097
Request for Clarification; Request for Comment; Correction | 12/30/13 | 78 FR 79362
Petition for Recon Comment Period End | 01/10/14 |
NPRM Comment Period End | 01/21/14 |
Announcement of Effective Date | 08/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
Next Action Undetermined

Regulatory Flexibility Analysis Required: Yes.

Agency Contact: Karen Peltz Strauss, Deputy Chief, Consumer and Governmental Affairs Bureau, Federal Communications Commission, 445 12th Street SW., Washington, DC 20554, Phone: 202 418-2388, Email: karen.strauss@fcc.gov.

RIN: 3060-AI15

451. Consumer Information and Disclosure and Truth in Billing and Billing Format

Legal Authority: 47 U.S.C. 201; 47 U.S.C. 258

Abstract: In 1999, the Commission adopted truth-in-billing rules to address concerns that there is consumer confusion relating to billing for telecommunications services. On March 18, 2005, the Commission released an Order and Further Notice of Proposed Rulemaking (FNPRM) to further facilitate the ability of telephone consumers to make informed choices among competitive service offerings.

On August 28, 2009, the Commission released a Notice of Inquiry that asks questions about information available to consumers at all stages of the purchasing process for all communications services, including: (1) Choosing a provider; (2) choosing a service plan; (3) managing use of the service plan; and (4) deciding whether and when to switch an existing provider or plan.

On October 14, 2010, the Commission released a Notice of Proposed Rulemaking (NPRM) proposing rules that would require mobile service providers to provide usage alerts and information that will assist consumers in avoiding unexpected charges on their bills.

On July 12, 2011, the Commission released an NPRM proposing rules that would assist consumers in detecting and preventing the placement of unauthorized charges on their telephone bills, an unlawful and fraudulent practice, commonly referred to as “cramming.”

On April 27, 2012, the Commission adopted rules to address “cramming” on wireline telephone bills and released an FNPRM seeking comment on additional measures to protect wireline and wireless consumers from unauthorized charges.

Timetable:

Action | Date | FR Cite
FNPRM | 05/25/05 | 70 FR 30044
R&O | 05/25/05 | 70 FR 29979
NOI | 08/28/09 |
Public Notice | 05/20/10 | 75 FR 28249
Public Notice | 06/11/10 | 75 FR 33303
NPRM | 11/26/10 | 75 FR 72773
NPRM | 08/23/11 | 76 FR 52625
NPRM Comment Period End | 11/21/11 |
Order (Reply Comment Period Extended) | 11/30/11 | 76 FR 74017
Reply Comment Period End | 12/05/11 |
R&O | 05/24/12 | 77 FR 30915
FNPRM | 05/24/12 | 77 FR 30972
FNPRM Comment Period End | 07/09/12 |
Order (Comment Period Extended) | 07/17/12 | 77 FR 41955
Comment Period End | 07/20/12 |
Announcement of Effective Dates | 10/26/12 | 77 FR 65230
Correction of Final Rule | 11/30/12 | 77 FR 71353
Correction of Final Rule | 11/30/12 | 77 FR 71354
Next Action Undetermined

Regulatory Flexibility Analysis Required: Yes.

Agency Contact: John B Adams, Attorney Advisor, Federal Communications Commission, 445 12th Street SW., Washington, DC 20554, Phone: 202 418-2854, Email: johnb.adams@fcc.gov.

RIN: 3060-AI61

452. Closed-Captioning of Video Programming (Section 610 Review)

Legal Authority: 47 U.S.C. 613

Abstract: The Commission's closed-captioning rules are designed to make video programming more accessible to deaf and hard-of-hearing Americans. This proceeding resolves some issues regarding the Commission's closed-captioning rules that were raised for comment in 2005, and also seeks comment on how a certain exemption from the closed-captioning rules should be applied to digital multicast broadcast channels.

Timetable:

Action | Date | FR Cite
NPRM | 02/03/97 | 62 FR 4959
R&O | 09/16/97 | 62 FR 48487
Order on Recon | 10/20/98 | 63 FR 55959
NPRM | 09/26/05 | 70 FR 56150
Order and Declaratory Ruling | 01/13/09 | 74 FR 1594
NPRM | 01/13/09 | 74 FR 1654
Final Rule Correction | 09/11/09 | 74 FR 46703
Final Rule Announcement of Effective Date | 02/19/10 | 75 FR 7370
Order | 02/19/10 | 75 FR 7368
Order Suspending Effective Date | 02/19/10 | 75 FR 7369
Waiver Order | 10/04/10 | 75 FR 61101
Public Notice | 11/17/10 | 75 FR 70168
Interim Final Rule (Order) | 11/01/11 | 76 FR 67376
Final Rule (MO&O) | 11/01/11 | 76 FR 67377
NPRM | 11/01/11 | 76 FR 67397
NPRM Comment Period End | 12/16/11 |
Public Notice | 05/04/12 | 77 FR 26550
Public Notice | 12/15/12 | 77 FR 72348
FNPRM | 03/27/14 | 79 FR 17094
FNPRM Comment Period End | 08/25/14 |
R&O | 03/31/14 | 79 FR 17911
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI72

453. Accessibility of Programming Providing Emergency Information

Legal Authority: 47 U.S.C. 613

Abstract: In this proceeding, the Commission adopted rules detailing how video programming distributors must make emergency information accessible to persons with hearing and visual disabilities.

Timetable:

Action | Date | FR Cite
FNPRM | 01/21/98 | 63 FR 3070
NPRM | 12/01/99 | 64 FR 67236
NPRM Correction | 12/22/99 | 64 FR 71712
Second R&O | 05/09/00 | 65 FR 26757
R&O | 09/11/00 | 65 FR 54805
Final Rule; Correction | 09/20/00 | 65 FR 5680
NPRM | 11/28/12 | 77 FR 70970
NPRM Comment Period Extended | 12/20/12 | 77 FR 75404
NPRM Comment Period Extension End | 01/07/13 |
R&O | 05/24/13 | 78 FR 31770
FNPRM | 05/24/13 | 78 FR 31800
FNPRM | 12/20/13 | 78 FR 77074
FNPRM Comment Period End | 02/18/14 |
NPRM | 06/18/13 | 78 FR 36478
NPRM Comment Period End | 08/07/13 |
R&O | 12/20/13 | 78 FR 77210
Petition for Recon | 01/31/14 | 79 FR 5364
Comment Period End | 02/25/14 |
Correcting Amendments | 02/10/14 | 79 FR 7590
Announcement of Effective Date | 04/16/14 | 79 FR 21399
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI75

454. Empowering Consumers To Avoid Bill Shock (Docket No. 10-207)

Legal Authority: 47 U.S.C. 201; 47 U.S.C. 303; 47 U.S.C. 332

Abstract: On October 14, 2010, the Commission released a Notice of Proposed Rulemaking which proposes a rule that would require mobile service providers to provide usage alerts and information that will assist consumers in avoiding unexpected charges on their bills.

Timetable:

Action | Date | FR Cite
Public Notice | 05/20/10 | 75 FR 28249
NPRM | 11/26/10 | 75 FR 72773
Next Action Undetermined

Regulatory Flexibility Analysis Required: Yes.

Agency Contact: Richard D. Smith, Special Counsel, Consumer Policy Divison, Federal Communications Commission, Consumer and Governmental Affairs Bureau, 445 12th Street SW., Washington, DC 20554, Phone: 717 338-2797, Fax: 717 338-2574, Email: richard.smith@fcc.gov.

RIN: 3060-AJ51

455. Contributions to the Telecommunications Relay Services Fund (CG Docket No. 11-47)

Legal Authority: 47 U.S.C. 151; 47 U.S.C. 154; 47 U.S.C. 225; 47 U.S.C. 616

Abstract: The Commission prescribes by regulation the obligations of each provider of interconnected and non-interconnected Voice over Internet Protocol (VoIP) service to participate in and contribute to the Interstate Telecommunications Relay Services Fund in a manner that is consistent with and comparable to such fund.

Timetable:

Action | Date | FR Cite
NPRM | 04/04/11 | 76 FR 18490
NPRM Comment Period End | 05/04/11 |
Final Rule | 10/25/11 | 76 FR 65965
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AJ63

456. Empowering Consumers To Prevent and Detect Billing for Unauthorized Charges (“Cramming”)

Legal Authority: 47 U.S.C. 201; 47 U.S.C. 301; 47 U.S.C. 303; 47 U.S.C. 332

Abstract: On July 12, 2011, the Commission released a Notice of Proposed Rulemaking proposing rules that would assist consumers in detecting and preventing the placement of unauthorized charges on telephone bills, an unlawful and fraudulent practice commonly referred to as “cramming.” On April 27, 2012, the Commission adopted rules to address “cramming” on wireline telephone bills and released a Further Notice of Proposed Rulemaking seeking comment on additional measures to protect wireline and wireless consumers from unauthorized charges.

Timetable:

Action | Date | FR Cite
NPRM | 08/23/11 | 76 FR 52625
NPRM Comment Period End | 11/21/11 |
Order (Extends Reply Comment Period) | 11/30/11 | 76 FR 74017
NPRM Comment Period End | 12/05/11 |
FNPRM | 05/24/12 | 77 FR 30972
R&O | 05/24/12 | 77 FR 30915
FNPRM Comment Period End | 07/09/12 |
Order (Extends Reply Comment Period) | 07/17/12 | 77 FR 41955
FNPRM Comment Period End | 07/20/12 |
Announcement of Effective Dates | 10/26/12 | 77 FR 65230
Correction of Final Rule | 11/30/12 | 77 FR 71354
Correction of Final Rule | 11/30/12 | 77 FR 71353
Next Action Undetermined

Regulatory Flexibility Analysis Required: Yes.

Agency Contact: John B Adams, Attorney Advisor, Federal Communications Commission, 445 12th Street SW., Washington, DC 20554, Phone: 202 418-2854, Email: johnb.adams@fcc.gov.

RIN: 3060-AJ72

457. Implementation of the Middle Class Tax Relief and Job Creation Act of 2012/Establishment of a Public Safety Answering Point Do-Not-Call Registry

Legal Authority: Pub. L. 112-96 sec 6507

Abstract: The Commission issued, on May 22, 2012, an NPRM to initiate a proceeding to create a Do-Not-Call registry for public safety answer points (PSAPs), as required by section 6507 of the Middle Class Tax Relief and Job Creation Act of 2012. The statute requires the Commission to establish a registry that allows PSAPs to register their telephone numbers on a do-not-call list; prohibit the use of automatic dialing equipment to contact registered numbers; and implement a range of monetary penalties for disclosure of registered numbers and for use of automatic dialing equipment to contact such numbers. On October 17, 2012, the Commission adopted final rules implementing the statutory requirements described above.

Timetable:

Action | Date | FR Cite
NPRM | 06/21/12 | 77 FR 37362
R&O | 10/29/12 | 77 FR 71131
Correction Amendments | 02/13/13 | 78 FR 10099
Announcement of Effective Date | 03/26/13 | 78 FR 18246
Next Action Undetermined

Regulatory Flexibility Analysis Required: Yes.

Agency Contact: Richard D Smith, Special Counsel, Consumer Policy Divison, Federal Communications Commission, Consumer and Governmental Affairs Bureau, 445 12th Street SW., Washington, DC 20554, Phone: 717 338-2797, Fax: 717 338-2574, Email: richard.smith@fcc.gov.

RIN: 3060-AJ84

458. Implementation of Sections 716 and 717 of the Communications Act of 1934, as Enacted by the Twenty-First Century Communications and Video Accessibility Act of 2010 (CG Docket No. 10-213)

Legal Authority: 47 U.S.C. 151; 47 U.S.C. 154; 47 U.S.C. 255; 47 U.S.C. 617; 47 U.S.C. 618; 47 U.S.C. 619

Abstract: These proceedings implement sections 716, 717, and 718 of the Communications Act, which were added by the Twenty-First Century Communications and Video Accessibility Act of 2010 (CVAA), related to the accessibility of advanced communications services and equipment (section 716), recordkeeping and enforcement requirements for entities subject to sections 255, 716, and 718 (section 717); and accessibility of Internet browsers built into mobile phones (section 718).

Timetable:

Action | Date | FR Cite
NPRM | 03/14/11 | 76 FR 13800
NPRM Comment Period Extended | 04/12/11 | 76 FR 20297
NPRM Comment Period End | 05/13/11 |
FNPRM | 12/30/11 | 76 FR 82240
R&O | 12/30/11 | 76 FR 82354
FNPRM Comment Period End | 03/14/12 |
Announcement of Effective Date | 04/25/12 | 77 FR 24632
2nd R&O | 05/22/13 | 78 FR 30226
Next Action Undetermined |  |

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AK00

459. Misuse of Internet Protocol (IP) Captioned Telephone Service; Telecommunications Relay Services and Speech-to-Speech Services

Legal Authority: 47 U.S.C. 151; 47 U.S.C. 154; 47 U.S.C. 225

Abstract: This FCC initiated this proceeding in its effort to ensure that IP CTS is available for eligible users only. In doing so, the FCC released an Interim Order and Notice of Proposed Rulemaking (NPRM) to address certain practices related to the provision and marketing of Internet Protocol Captioned Telephone Service (IP CTS). IP CTS is a form of relay service designed to allow people with hearing loss to speak directly to another party on a telephone call and to simultaneously listen to the other party and read captions of what that party is saying over an IP-enabled device. To ensure that IP CTS is provided efficiently to persons who need to use this service, this new Order establishes several requirements on a temporary basis from March 7, 2013 to September 3, 2013.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13 |
R&O | 08/30/13 | 78 FR 53684
FNPRM | 09/30/13 | 78FR 54201
FNPRM Comment Period End | 11/18/13 |
Petition for Recon Request for Comment | 12/16/13 | 78 FR 76097
Petiton for Recon Comment Period End | 01/10/14 |
Announcement of Effective Date | 08/28/14 | 79 FR 51446
Correction—Announcement of Effective Date | 08/28/14 | 79 FR 51450
Technical Amendments | 09/09/14 | 79 FR 53303
Next Action Undetermined |  |

Regulatory Flexibility Analysis Required: Yes.

Agency Contact: Greg Hlibok, Chief, Disability Rights Office, Federal Communications Commission, Consumer and Governmental Affairs Bureau, 445 12th Street SW., Washington, DC 20554, Phone: 202 559-5158, TDD Phone: 202 418-0413, Email: gregory.hlibok@fcc.gov.

RIN: 3060-AK01

FEDERAL COMMUNICATIONS COMMISSION (FCC)

Office of Engineering and Technology

460. New Advanced Wireless Services (ET Docket No. 00-258)

Legal Authority: 47 U.S.C. 154(i); 47 U.S.C. 157(a); 47 U.S.C. 303(c); 47 U.S.C. 303(f); 47 U.S.C. 303(g); 47 U.S.C. 303(r)

Abstract: This proceeding explores the possible uses of frequency bands below 3 GHz to support the introduction of new advanced wireless services, including third generations as well as future generations of wireless systems. Advanced wireless systems could provide for a wide range of voice data and broadband services over a variety of mobile and fixed networks. The Third Notice of Proposed Rulemaking discusses the frequency bands that are still under consideration in this proceeding and invites additional comments on their disposition. Specifically, it addresses the Unlicensed Personal Communications Service (UPCS) band at 1910-1930 MHz, the Multipoint Distribution Service (MDS) spectrum at 2155-2160/62 MHz bands, the Emerging Technology spectrum, at 2160-2165 MHz, and the bands reallocated from MSS 91990-2000 MHz, 2020-2025 MHz, and 2165-2180 MHz. We seek comment on these bands with respect to using them for paired or unpaired Advance Wireless Service (AWS) operations or as relocation spectrum for existing services. The seventh Report and Order facilitates the introduction of Advanced Wireless Service (AWS) in the band 1710-1755 MHz—an integral part of a 90 MHz spectrum allocation recently reallocated to allow for such new and innovative wireless services. We largely adopt the proposals set forth in our recent AWS Fourth NPRM in this proceeding that are designed to clear the 1710-1755 MHz band of incumbent Federal Government operations that would otherwise impede the development of new nationwide AWS services. These actions are consistent with previous actions in this proceeding and with the United States Department of Commerce, National Telecommunications and Information Administration (NTIA) 2002 Viability Assessment, which addressed relocation and re-accommodation options for Federal Government operations in the band. The eighth Report and Order reallocated the 2155-2160 MHz band for fixed and mobile services and designates the 2155-2175 MHz band for Advanced Wireless Service (AWS) use. This proceeding continues the Commission's ongoing efforts to promote spectrum utilization and efficiency with regard to the provision of new services, including Advanced Wireless Services. The Order requires Broadband Radio Service (BRS) licensees in the 2150-2160/62 MHz band to provide information on the construction status and operational parameters of each incumbent BRS system that would be the subject of relocation. The Notice of Proposed Rule Making requested comments on the specific relocation procedures applicable to Broadband Radio Service (BRS) operations in the 2150-2160/62 MHz band, which the Commission recently decided will be relocated to the newly restructured 2495-2690 MHz band. The Commission also requested comments on the specific relocation procedures applicable to Fixed Microwave Service (FS) operations in the 2160-2175 MHz band. The Office of Engineering and Technology (OET) and the Wireless Telecommunications Bureau (WTB) set forth the specific data that Broadband Radio Service (BRS) licensees in the 2150-2160/62 MHz band must file along with the deadline date and procedures for filing this data on the Commission's Universal Licensing System (ULS). The data will assist in determining future AWS licensees' relocation obligations. The ninth Report and Order established procedures for the relocation of Broadband Radio Service (BRS) operations from the 2150-2160/62 MHz band, as well as for the relocation of Fixed Microwave Service (FS) operations from the 2160-2175 MHz band, and modified existing relocation procedures for the 2110-2150 MHz and 2175-2180 MHz bands. It also established cost-sharing rules to identify the reimbursement obligations for Advanced Wireless Service (AWS) and Mobile Satellite Service (MSS) entrants benefiting from the relocation of incumbent FS operations in the 2110-2150 MHz and 2160-2200 MHz bands and AWS entrants benefiting from the relocation of BRS incumbents in the 2150-2160/62 MHz band. The Commission continues its ongoing efforts to promote spectrum utilization and efficiency with regard to the provision of new services, including AWS. The Order dismisses a petition for reconsideration filed by the Wireless Communications Association International, Inc. (WCA) as moot. Two petitions for Reconsideration were filed in response to the ninth Report and Order. The Report and Orders and Declaratory Ruling concludes the Commission's longstanding efforts to relocate the Broadcast Auxiliary Service (BAS) from the 1990-2110 MHz band to the 2025-2110 MHz band, freeing up 35 megahertz of spectrum in order to foster the development of new and innovative services. This decision addresses the outstanding matter of Sprint Nextel Corporation's (Sprint Nextel) inability to agree with Mobile Satellite Service (MSS) operators in the band on the sharing of the costs to relocate the BAS incumbents. To resolve this controversy, the Commission applied its time-honored relocation principles for emerging technologies previously adopted for the BAS band to the instant relocation process, where delays and unanticipated developments have left ambiguities and misconceptions among the relocating parties. In the process, the Commission balances the responsibilities for and benefits of relocating incumbent BAS operations among all the new entrants in the different services that will operate in the band. The Commission proposed to modify its cost-sharing requirements for the 2 GHz BAS band because the circumstances surrounding the BAS transition are very different than what was expected when the cost-sharing requirements were adopted. The Commission believed that the best course of action was to propose new requirements that would address the ambiguity of applying the literal language of the current requirements to the changed circumstances, as well as balance the responsibilities for and benefits of relocating incumbent BAS operations among all new entrants in the band based on the Commission's relocation policies set forth in the Emerging Technologies proceeding. The Commission proposed to eliminate, as of January 1, 2009, the requirement that Broadcast Auxiliary Service (BAS) licensees in the 30 largest markets and fixed BAS links in all markets be transitioned before the Mobile Satellite Service (MSS) operators can begin offering service. The Commission also sought comments on how to mitigate interference between new MSS entrants and incumbent BAS licensees who had not completed relocation before the MSS entrants begin offering service. In addition, the Commission sought comments on allowing MSS operators to begin providing service in those markets where BAS incumbents have been transitioned. In the Further Notice of Proposed Rule Making the Commission proposed to modify its cost sharing requirements for the 2 GHz BAS band because the circumstances surrounding the BAS transition are very different than what was expected when the cost sharing requirements were adopted. The Commission believes that the best course of action is to propose new requirements that will address the ambiguity of applying the literal language of the current requirements to the changed circumstances, as well as balance the responsibilities for and benefits of relocating incumbent BAS operations among all new entrants in the band based on the Commission's relocation policies set forth in the Emerging Technologies proceeding.

Timetable:

Action | Date | FR Cite
NPRM | 01/23/01 | 66 FR 7438
NPRM Comment Period End | 03/09/01 |
Final Report | 04/11/01 | 66 FR 18740
FNPRM | 09/13/01 | 66 FR 47618
MO&O | 09/13/01 | 66 FR 47591
First R&O | 10/25/01 | 66 FR 53973
Petition for Recon | 11/02/01 | 66 FR 55666
Second R&O | 01/24/03 | 68 FR 3455
Third NPRM | 03/13/03 | 68 FR 12015
Seventh R&O | 12/29/04 | 69 FR 7793
Petition for Recon | 04/13/05 | 70 FR 19469
Eighth R&O | 10/26/05 | 70 FR 61742
Order | 10/26/05 | 70 FR 61742
NPRM | 10/26/05 | 70 FR 61752
Public Notice | 12/14/05 | 70 FR 74011
Ninth R&O and Order | 05/24/06 | 71 FR 29818
Petition for Recon | 07/19/06 | 71 FR 41022
FNPRM | 03/31/08 | 73 FR 16822
R&O and NPRM | 06/23/09 | 74 FR 29607
FNPRM | 06/23/09 | 74 FR 29607
5th R&O, 11th R&O, 6th R&O, and Declaratory Ruling | 11/02/10 | 75 FR 67227
Next Action Undetermined |  |

Regulatory Flexibility Analysis Required: Yes.

Agency Contact: Rodney Small, Economist, Federal Communications Commission, Office of Engineering and Technology, 445 12th Street SW., Washington, DC 20554, Phone: 202 418-2452, Fax: 202 418-1944, Email: rodney.small@fcc.gov.

RIN: 3060-AH65

461. Exposure to Radiofrequency Electromagnetic Fields

Legal Authority: 47 U.S.C. 151; 47 U.S.C. 302 and 303; 47 U.S.C. 309(j); 47 U.S.C. 336

Abstract: In the Report and Order the Commission resolved several issues regarding compliance with the Federal Communications Commission's (FCC's) regulations for conducting environmental reviews under the National Environmental Policy Act (NEPA) as they relate to the guidelines for human exposure to RF electromagnetic fields. More specifically, the Commission clarifies evaluation procedures and references to determine compliance with its limits, including specific absorption rate (SAR) as a primary metric for compliance, consideration of the pinna (outer ear) as an extremity, and measurement of medical implant exposure. The Commission also elaborates on mitigation procedures to ensure compliance with its limits, including labeling and other requirements for occupational exposure classification, clarification of compliance responsibility at multiple transmitter sites, and labeling of fixed consumer transmitters.

Timetable:

Action | Date | FR Cite
NPRM | 09/08/03 | 68 FR 52879
NPRM Comment Period End | 12/08/03
R&O | 06/04/13 | 78 FR 33634
Next Action Undetermined

Regulatory Flexibility Analysis Required: Yes

Agency Contact: Ira Keltz, Electronics Engineer, Federal Communications Commission, Office of Engineering and Technology, 445 12th Street SW., Washington, DC 20554, Phone: 202 418-0616, Fax: 202 418-1944, Email: ikeltz@fcc.gov.

RIN: 3060-AI17

462. Unlicensed Operation in the TV Broadcast Bands (ET Docket No. 04-186)

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services (this unused TV spectrum is often termed “white spaces”). This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary, correct any interference that may occur.

The Second Memorandum Opinion and Order finalizes rules to make the unused spectrum in the TV bands available for unlicensed broadband wireless devices. This particular spectrum has excellent propagation characteristics that allow signals to reach farther and penetrate walls and other structures. Access to this spectrum could enable more powerful public Internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band, but eventually in other frequency bands as well.

This Order addressed five petitions for reconsideration of the Commission's decisions in the Second Memorandum Opinion and Order (“Second MO&O”) in this proceeding and modified rules in certain respects. In particular, the Commission: (1) Increased the maximum height above average terrain (HAAT) for sites where fixed devices may operate; (2) modified the adjacent channel emission limits to specify fixed rather than relative levels; and (3) slightly increased the maximum permissible power spectral density (PSD) for each category of TV bands device. These changes will result in decreased operating costs for fixed TVBDs and allow them to provide greater coverage, thus increasing the availability of wireless broadband services in rural and underserved areas without increasing the risk of interference to incumbent services. The Commission also revised and amended several of its rules to better effectuate the Commission's earlier decisions in this docket and to remove ambiguities.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Petitions for Recon | 02/09/11 | 76 FR 7208
3rd MO&O and Order | 05/17/12 | 77 FR 28236
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AI52

463. Fixed and Mobile Services in the Mobile Satellite Service (ET Docket No. 10-142)

Legal Authority: 47 U.S.C. 154(i) and 301; 47 U.S.C. 303(c) and 303(f); 47 U.S.C. 303(r) and 303(y); 47 U.S.C. 310

Abstract: The Notice of Proposed Rulemaking proposed to take a number of actions to further the provision of terrestrial broadband services in the MSS bands. In the 2 GHz MSS band, the Commission proposed to add co-primary Fixed and Mobile allocations to the existing Mobile-Satellite allocation. This would lay the groundwork for providing additional flexibility in use of the 2 GHz spectrum in the future. The Commission also proposed to apply the terrestrial secondary market spectrum leasing rules and procedures to transactions involving terrestrial use of the MSS spectrum in the 2 GHz, Big LEO, and L-bands in order to create greater certainty and regulatory parity with bands licensed for terrestrial broadband service.

The Commission also asked, in a Notice of Inquiry, about approaches for creating opportunities for full use of the 2 GHz band for stand-alone terrestrial uses. The Commission requested comment on ways to promote innovation and investment throughout the MSS bands while also ensuring market-wide mobile satellite capability to serve important needs like disaster recovery and rural access.

In the Report and Order, the Commission amended its rules to make additional spectrum available for new investment in mobile broadband networks while also ensuring that the United States maintains robust mobile satellite service capabilities. First, the Commission adds co-primary Fixed and Mobile allocations to the Mobile Satellite Service (MSS) 2 GHz band, consistent with the International Table of Allocations, allowing more flexible use of the band, including for terrestrial broadband services, in the future. Second, to create greater predictability and regulatory parity with the bands licensed for terrestrial mobile broadband service, the Commission extends its existing secondary market spectrum manager spectrum leasing policies, procedures, and rules that currently apply to wireless terrestrial services to terrestrial services provided using the Ancillary Terrestrial Component (ATC) of an MSS system.

Petitions for Reconsideration have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz, and published pursuant to 47 CFR 1.429(e). See 1.4(b)(1) of the Commission's rules.

Timetable:

Action | Date | FR Cite
NPRM | 08/16/10 | 75 FR 49871
NPRM Comment Period End | 09/15/10
Reply Comment Period End | 09/30/10
R&O | 05/31/11 | 76 FR 31252
Petitions for Recon | 08/10/11 | 76 FR 49364
Next Action Undetermined

Regulatory Flexibility Analysis Required: Yes

Agency Contact: Nicholas Oros, Electronics Engineer, Federal Communications Commission, 445 12th Street SW., Washington, DC 20554, Phone: 202 418-0636, Email: nicholas.oros@fcc.gov.

RIN: 3060-AJ46

464. Innovation in the Broadcast Television Bands (ET Docket No. 10-235)

Legal Authority: 47 U.S.C. 154(i); 47 U.S.C. 301; 47 U.S.C. 302; 47 U.S.C. 303(e); 47 U.S.C. 303(f); 47 U.S.C. 303(r)

Abstract: The Commission initiated this proceeding to further its ongoing commitment to addressing America's growing demand for wireless broadband services, to spur ongoing innovation and investment in mobile technology, and to ensure that America keeps pace with the global wireless revolution by making a significant amount of new spectrum available for broadband. The approach proposed is consistent with the goal set forth in the National Broadband Plan (the Plan) to repropose up to 120 megahertz from the broadcast television bands for new wireless broadband uses through, in part, voluntary contributions of spectrum to an incentive auction. Reallocation of this spectrum as proposed will provide the necessary flexibility for meeting the requirements of these new applications. In the Report and Order, the Commission took preliminary steps toward making a significant portion of the UHF and VHF frequency bands (U/V Bands) currently used by the broadcast television service available for new uses. This action serves to further address the Nation's growing demand for wireless broadband services, promote the ongoing innovation and investment in mobile communications, and ensure that the United States keeps pace with the global wireless revolution. At the same time, the approach helps preserve broadcast television as a healthy, viable medium and would be consistent with the general proposal set forth in the National Broadband Plan to repurpose spectrum from the U/V bands for new wireless broadband uses through, in part, voluntary contributions of spectrum to an incentive auction. This action is consistent with the recent enactment by Congress of new incentive auction authority for the Commission (Spectrum Act). Specifically, this item sets out a framework by which two or more television licensees may share a single six MHz channel in connection with an incentive auction. However, the Report and Order did not act on the proposals in the Notice of Proposed Rulemaking to establish fixed and mobile allocations in the U/V bands or to improve TV service on VHF channels. The Report and Order stated that the Commission will undertake a broader rulemaking to implement the Spectrum Act's provisions relating to an incentive auction for U/V band spectrum, and that it believes it will be more efficient to act on new allocations in the context of that rulemaking. In addition, the record created in response to the Notice of Proposed Rulemaking does not establish a clear way forward to significantly increase the utility of the VHF bands for the operation of television services. The Report and Order states that the Commission will revisit this matter in a future proceeding.

Timetable:

Action | Date | FR Cite
NPRM | 02/01/11 | 76 FR 5521
NPRM Comment Period End | 03/18/11
R&O | 05/23/12 | 77 FR 30423
Next Action Undetermined

Regulatory Flexibility Analysis Required: Yes

Agency Contact: Alan Stillwell, Deputy Chief, Federal Communications Commission, Office of Engineering and Technology, 445 12th Street SW., Washington, DC 20554, Phone: 202 418-2925, Email: alan.stillwell@fcc.gov.

RIN: 3060-AJ57

465. Radio Experimentation and Market Trials Under Part 5 of the Commission's Rules and Streamlining Other Related Rules (ET Docket No. 10-236)

Legal Authority: 47 U.S.C. 154(i); 47 U.S.C. 301 and 303

Abstract: The Commission initiated this proceeding to promote innovation and efficiency in spectrum use in the Experimental Radio Service (ERS). For many years, the ERS has provided fertile ground for testing innovative ideas that have led to new services and new devices for all sectors of the economy. The Commission proposed to leverage the power of experimental radio licensing to accelerate the rate at which these ideas transform from prototypes to consumer devices and services. Its goal is to inspire researchers to dream, discover, and deliver the innovations that push the boundaries of the broadband ecosystem. The resulting advancements in devices and services available to the American public and greater spectrum efficiency over the long term will promote economic growth, global competitiveness, and a better way of life for all Americans.

In the Report and Order (R&O), the Commission revised and streamlined its rules to modernize the Experimental Radio Service (ERS). The rules adopted in the R&O updated the ERS to a more flexible framework to keep pace with the speed of modern technological change while continuing to provide an environment where creativity can thrive. To accomplish this transition, the Commission created three new types of ERS licenses—the program license, the medical testing license, and the compliance testing license—to benefit the development of new technologies, expedite their introduction to the marketplace, and unleash the full power of innovators to keep the United States at the forefront of the communications industry. The Commission's actions also modified the market trial rules to eliminate confusion and more clearly articulate its policies with respect to marketing products prior to equipment certification. The Commission believes that these actions will remove regulatory barriers to experimentation, thereby permitting institutions to move from concept to experimentation to finished product more rapidly and to more quickly implement creative problem-solving methodologies.

Timetable:

Action | Date | FR Cite
NPRM | 02/08/11 | 76 FR 6928
NPRM Comment Period End | 03/10/11
R&O | 04/29/13 | 78 FR 25138
Next Action Undetermined

Regulatory Flexibility Analysis Required: Yes.

Agency Contact: Nnake Nweke, Chief, Experimental Licensing Branch, Federal Communications Commission, Office of Engineering and Technology, 445 12th Street SW., Washington, DC 20554, Phone: 202 418-0785, Email: nnake.nweke@fcc.gov.

RIN: 3060-AJ62

466. Operation of Radar Systems in the 76-77 GHZ Band (ET Docket No. 11-90)

Legal Authority: 47 U.S.C. 151; 47 U.S.C. 152; 47 U.S.C. 154(i); 47 U.S.C. 301; 47 U.S.C. 302; 47 U.S.C. 303(f)

Abstract: The Commission proposes to amend its rules to enable enhanced vehicular radar technologies in the 76-77 GHz band to improve collision avoidance and driver safety. Vehicular radars can determine the exact distance and relative speed of objects in front of, beside, or behind a car to improve the driver's ability to perceive objects under bad visibility conditions or objects that are in blind spots. These modifications to the rules will provide more efficient use of spectrum, and enable the automotive and fixed radar application industries to develop enhanced safety measures for drivers and the general public. The Commission takes this action in response to petitions for rulemaking filed by Toyota Motor Corporation (“TMC”) and Era Systems Corporation (“Era”).

This Report and Order amends the Commission's rules to provide a more efficient use of the 76-77 GHz band, and to enable the automotive and aviation industries to develop enhanced safety measures for drivers and the general public. Specifically, the Commission eliminated the in-motion and not-in-motion distinction for vehicular radars, and instead adopted new uniform emission limits for forward, side, and rear-looking vehicular radars. This will facilitate enhanced vehicular radar technologies to improve collision avoidance and driver safety. The Commission also amended its rules to allow the operation of fixed radars at airport locations in the 76-77 GHz band for purposes of detecting foreign object debris on runways and monitoring aircraft and service vehicles on taxiways and other airport vehicle service areas that have no public vehicle access. The Commission took this action in response to petitions for rulemaking filed by Toyota Motor Corporation (“TMC”) and Era Systems Corporation (“Era”). Petitions for Reconsideration were filed by Navtech Radar, Ltd. and Honeywell International Inc.

Timetable:

Action | Date | FR Cite
NPRM | 06/16/11 | 76 FR 35176
R&O | 08/13/12 | 77 FR 48097
Petition for Recon | 11/11/12 | 77 FR 68722
Next Action Undetermined

Regulatory Flexibility Analysis Required: Yes.

Agency Contact: Aamer Zain, Federal Communications Commission, 445 12th Street SW., Washington, DC 20554, Phone: 202 418-2437, Email: aamer.zain@fcc.gov.

RIN: 3060-AJ68

467. WRC-07 Implementation (ET Docket No. 12-338)

Legal Authority: 47 U.S.C. 151; 47 U.S.C. 154; 47 U.S.C. 301; 47 U.S.C. 302(a); 47 U.S.C. 303

Abstract: In the Notice of Proposed Rulemaking (NPRM), the Commission proposed to amend parts 1, 2, 74, 78, 87, 90, and 97 of its rules to implement allocation decisions from the World Radiocommunication Conference (Geneva, 2007) (WRC 07) concerning portions of the radio frequency (RF) spectrum between 108 MHz and 20.2 GHz and to make certain updates to its rules in this frequency range. The NPRM follows the Commission's July 2010 WRC-07 Table Clean-up Order, 75 FR 62924, October 13, 2010, which made certain nonsubstantive, editorial revisions to the Table of Frequency Allocations (Allocation Table) and to other related rules. The Commission also addressed the recommendations for implementation of the WRC-07 Final Acts that the National Telecommunications and Information Administration (NTIA) submitted to the Commission in August 2009. As part of its comprehensive review of the Allocation Table, the Commission also proposed to make allocation changes that are not related to the WRC-07 Final Acts and update certain service rules, and requested comment on other allocation issues that concern portions of the RF spectrum between 137.5 kHz and 54.25 GHz.

Timetable:

Action | Date | FR Cite
NPRM | 12/27/12 | 77 FR 76250
NPRM Comment Period End | 02/25/13
Next Action Undetermined

Regulatory Flexibility Analysis Required: Yes.

Agency Contact: Tom Mooring, Electronics Engineer, Federal Communications Commission, Office of Engineering and Technology, 445 12th Street SW., Washington, DC 20554, Phone: 202 418-2450, Fax: 202 418-1944, Email: tom.mooring@fcc.gov.

RIN: 3060-AJ93

468. Federal Earth Stations-Non-Federal Fixed Satellite Service Space Stations; Spectrum For Non-Federal Space Launch Operations; Et Docket No. 13-115

Legal Authority: 47 U.S.C. 154; 47 U.S.C. 302(a); 47 U.S.C. 303; 47 U.S.C. 336

Abstract: The Notice of Proposed Rulemaking proposes to make spectrum allocation proposals for three different space related purposes. The Commission makes two alternative proposals to modify the Allocation Table to provide interference protection for Fixed-Satellite Service (FSS) and Mobile-Satellite Service (MSS) earth stations operated by Federal agencies under authorizations granted by the National Telecommunications and Information Administration (NTIA) in certain frequency bands. The Commission also proposes to amend a footnote to the Allocation Table to permit a Federal MSS system to operate in the 399.9-400.05 MHz band; it also makes alternative proposals to modify the Allocation Table to provide access to spectrum on an interference protected basis to Commission licensees for use during the launch of launch vehicles (i.e. rockets). The Commission also seeks comment broadly on the future spectrum needs of the commercial space sector. The Commission expects that, if adopted, these proposals would advance the commercial space industry and the important role it will play in our nation's economy and technological innovation now and in the future.

Timetable:

Action | Date | FR Cite
NPRM | 07/01/13 | 78 FR 39200
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AK09

469. Authorization of Radiofrequency Equipment; ET Docket No. 13-44

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Commission is responsible for an equipment authorization program for radiofrequency (RF) devices under part 2 of its rules. This program is one of the primary means that the Commission uses to ensure that the multitude of RF devices used in the United States operate effectively without causing harmful interference and otherwise comply with the Commission rules. All RF devices subject to equipment authorization must comply with the Commission's technical requirement before they can be imported or marketed. The Commission or a Telecommunication Certification Body (TCB) must approve some of these devices before they can be imported or marketed, while others do not require such approval. The Commission last comprehensively reviewed its equipment authorization program more than 10 years ago. The rapid innovation in equipment design since that time has led to ever-accelerating growth in the number of parties applying for equipment approval. The Commission therefore believes that the time is now right for us to comprehensively review our equipment authorization processes to ensure that they continue to enable this growth and innovation in the wireless equipment market. In May of 2012, the Commission began this reform process by issuing an Order to increase the supply of available grantee codes. With this Notice of Proposed Rulemaking (NPRM), the Commission continues its work to review and reform the equipment authorization processes and rules. This Notice of Proposed Rulemaking proposes certain changes to the Commission's part 2 equipment authorization processes to ensure that they continue to operate efficiently and effectively. In particular, it addresses the role of TCBs in certifying RF equipment and post-market surveillance, as well as the Commission's role in assessing TCB performance. The NPRM also addressed the role of test laboratories in the RF equipment approval process, including accreditation of test labs and the Commission's recognition of laboratory accreditation bodies, and measurement procedures used to determine RF equipment compliance. Finally, it proposes certain modifications to the rules regarding TCBs that approve terminal equipment under part 68 of the rules that are consistent with our proposed modifications to the rules for TCBs that approve RF equipment. Specifically, the Commission proposes to recognize the National Institute for Standards and Technology (NIST) as the organization that designates TCBs in the United States and to modify the rules to reference the current International Organization for Standardization and International Electrotechnical Commission (ISO/IEC) guides used to accredit TCBs.

Timetable:

Action | Date | FR Cite
NPRM | 05/03/13 | 78 FR 25916
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AK10

FEDERAL COMMUNICATIONS COMMISSION (FCC)

International Bureau

Long-Term Actions

470. Space Station Licensing Reform (IB Docket No. 02-34)

Legal Authority: 47 U.S.C. 154(i); 47 U.S.C. 157; 47 U.S.C. 303(c); 47 U.S.C. 303(g)

Abstract: The Commission adopted a Notice of Proposed Rulemaking (NPRM) to streamline its procedures for reviewing satellite license applications. Before 2003, the Commission used processing rounds to review those applications. In a processing round, when an application is filed, the International Bureau (Bureau) issued a Public Notice establishing a cutoff date for other mutually exclusive satellite applications, and then considered all those applications together. In cases where sufficient spectrum to accommodate all the applications was not available, the Bureau directed the applicants to negotiate a mutually agreeable solution. Those negotiations took a long time, and delayed provision of satellite services to the public. The NPRM invited comment on two alternatives for expediting the satellite application process. One alternative was to replace the processing round procedure with a “first-come, first-served” procedure that would allow the Bureau to issue a satellite license to the first party filing a complete, acceptable application. The other alternative was to streamline the processing round procedure by adopting one or more of the following proposals: (1) place a time limit on negotiations; (2) establish criteria to select among competing applicants; (3) divide the available spectrum evenly among the applicants. In the First Report and Order in this proceeding, the Commission determined that different procedures were better-suited for different kinds of satellite applications. For most geostationary orbit (GSO) satellite applications, the Commission adopted a first-come, first-served approach. For most non-geostationary orbit (NGSO) satellite applications, the Commission adopted a procedure in which the available spectrum is divided evenly among the qualified applicants. The Commission also adopted measures to discourage applicants from filing speculative applications, including a bond requirement, payable if a licensee misses a milestone. The bond amounts originally were $5 million for each GSO satellite, and $7.5 million for each NGSO satellite system. These were interim amounts. Concurrently with the First Report and Order, the Commission adopted an FNPRM to determine whether to revise the bond amounts on a long-term basis. In the Second Report and Order, the Commission adopted a streamlined procedure for certain kinds of satellite license modification requests. In the Third Report and Order, the Commission adopted a standardized application form for satellite licenses, and adopted a mandatory electronic filing requirement for certain satellite applications. In the Fourth Report and Order, the Commission revised the bond amounts based on the record developed in response to FNPRM. The bond amounts are now $3 million for each GSO satellite, and $5 million for each NGSO satellite system.

Timetable:

Action | Date | FR Cite
NPRM | 03/19/02 | 67 FR 12498
NPRM Comment Period End | 07/02/02 |
Second R&O (Release Date) | 06/20/03 | 68 FR 62247
Second FNPRM (Release Date) | 07/08/03 | 68 FR 53702
Third R&O (Release Date) | 07/08/03 | 68 FR 63994
FNPRM | 08/27/03 | 68 FR 51546
First R&O | 08/27/03 | 68 FR 51499
FNPRM Comment Period End | 10/27/03 |
Fourth R&O (Release Date) | 04/16/04 | 69 FR 67790
Fifth R&O, First Order on Recon (Release Date) | 07/06/04 | 69 FR 51586
Next Action Undetermined

Regulatory Flexibility Analysis Required: Yes.

Agency Contact: Andrea Kelly, Associate Chief, Satellite Division, Federal Communications Commission, International Bureau, 445 12th Street SW., Washington, DC 20554, Phone: 202 418-7877, Fax: 202 418-0748, Email: andrea.kelly@fcc.gov.

RIN: 3060-AH98

471. Reporting Requirements for U.S. Providers of International Telecommunications Services (IB Docket No. 04-112)

Legal Authority: 47 U.S.C. 151; 47 U.S.C. 154; 47 U.S.C. 161; 47 U.S.C. 201 to 205; ...

Abstract: The FCC is reviewing the reporting requirements to which entities providing U.S.-international service are subject under 47 CFR part 43. The FCC adopted a First Report and Order that eliminated certain of those requirements. Specifically, it eliminated the quarterly reporting requirements for large carriers and foreign-affiliated switch resale carriers, 47 CFR 43.61(b) and (c); the circuit addition report, 47 CFR 63.23(e); the division of telegraph tolls report, 47 CFR 43.53; and the requirement to report separately for U.S. offshore points, 43.61(a), 48.82(a). The FCC adopted Second Report and Order that made additional reforms to streamline further and modernize the reporting requirements, including requiring that entities providing international calling service via Voice over Internet Protocol (VoIP) connected to the public switched telephone network (PSTN) to submit data regarding their provision of international telephone service. The Voice on the Net Coalition (VON Coalition) filed a petition requesting that they reconsider requiring VoIP providers from reporting their international traffic and revenues.

Timetable:

Action | Date | FR Cite
NPRM | 04/12/04 | 69 FR 29676
First R&O | 05/12/11 | 76 FR 42567
FNPRM | 05/12/11 | 76 FR 42613
FNPRM Comment Period End | 09/02/11 |
Second R&O | 01/15/13 | 78 FR 15615
Petition for Recon | 07/01/13 | 78 FR 39232
Next Action Undetermined

Regulatory Flexibility Analysis Required: Yes.

Agency Contact: David Krech, Attorney Advisor, Federal Communications Commission, International Bureau, 445 12th Street SW., Washington, DC 20554, Phone: 202 418-1460, Fax: 202 418-2824, Email: david.krech@fcc.gov.

RIN: 3060-AI42

472. International Settlements Policy Reform (IB Docket No. 11-80)

Legal Authority: 47 U.S.C. 151; 47 U.S.C. 152; 47 U.S.C. 154; 47 U.S.C. 201 to 205; 47 U.S.C. 208; 47 U.S.C. 211; 47 U.S.C. 214; 47 U.S.C. 303(r); 47 U.S.C. 309; 47 U.S.C. 403

Abstract: FCC is reviewing the International Settlements Policy (ISP), which governs how U.S. carriers negotiate with foreign carriers for the exchange of international traffic and is the structure by which the Commission has sought to respond to concerns that foreign carriers with market power are able to take advantage of the presence of multiple U.S. carriers serving a particular market. In the NPRM, the FCC proposes to further deregulate the international telephony market and enable U.S. consumers to enjoy competitive prices when they make calls to international destinations. First, it proposes to remove the ISP from all international routes, except Cuba. Second, the FCC seeks comment on a proposal to enable the Commission to better protect U.S. consumers from the effects of anticompetitive conduct by foreign carriers in instances necessitating Commission intervention. Specifically, it seeks comments on proposals and issues regarding the application of the Commission's benchmarks policy.

Timetable:

Action | Date | FR Cite
NPRM | 05/13/11 | 76 FR 42625
NPRM Comment Period End | 09/02/11 |
Report and Order | 02/15/13 | 78 FR 11109
Next Action Undetermined

Regulatory Flexibility Analysis Required: Yes.

Agency Contact: James Ball, Chief, Policy Division, International Bureau, Federal Communications Commission, 445 12th Street SW., Washington, DC 20554, Phone: 202 418-0427, Email: james.ball@fcc.gov.

RIN: 3060-AJ77

473. Revisions to Parts 2 and 25 of the Commission's Rules to Govern the Use of Earth Stations Aboard Aircraft (IB Docket No. 12-376)

Legal Authority: 47 U.S.C. 154(i) and (j); 47 U.S.C. 157(a); 47 U.S.C. 302(a); 47 U.S.C. 303(c), (e), (f), (g), (j), (r) and (y)

Abstract: In this docket, the Commission provides for the efficient licensing of two-way in-flight broadband services, including Internet access, to passengers and flight crews aboard commercial airliners and private aircraft. The Report and Order establishes technical and licensing rules for Earth Stations Aboard Aircraft (ESAA), i.e., Earth stations on aircraft communicating with Fixed-Satellite Service (FSS) geostationary-orbit (GSO) space stations operating in the 10.95-11.2 GHz, 11.45-11.7 GHz, 11.7-12.2 GHz (space-to-Earth or downlink) and 14.0-14.5 GHz (Earth-to-space or uplink) frequency bands. The Notice of Proposed Rulemaking requests comment on a proposal to elevate the allocation status of ESAA in the 14.0-14.5 GHz band from secondary to primary, which would make the ESAA allocation equal to the allocations of Earth Stations on Vessels (ESV) and Vehicle-Mounted Earth Stations (VMES).

Timetable:

Action | Date | FR Cite
NPRM | 04/20/05 | 70 FR 20508
R&O | 03/08/13 | 78 FR 14920
NPRM | 03/18/13 | 78 FR 14952
NPRM Comment Period End | 06/21/13 |
2nd R&O and Order on Recon | 05/12/14 | 79 FR 26863
Next Action Undetermined

Regulatory Flexibility Analysis Required: Yes.

Agency Contact: Howard Griboff, Deputy Chief, Policy Division, Federal Communications Commission, International Bureau, 445 12th Street SW., Washington, DC 20554, Phone: 202 418-0657, Fax: 202 418-2824, Email: howard.griboff@fcc.gov.

RIN: 3060-AJ96

474. Reform of Rules and Policies on Foreign Carrier Entry Into the U.S. Telecommunications Market (IB Docket 12-299)

Legal Authority: 47 U.S.C. 151; 47 U.S.C. 152; 47 U.S.C. 154(i) to (j); 47 U.S.C. 201 to 205

Abstract: FCC is considering proposed changes in the criteria under which it considers certain applications from foreign carriers or affiliates of foreign carriers for entry into the U.S. market for international telecommunications services. It proposes to eliminate or in the alternative simplify the effective competitive opportunities test (ECO Text) adopted in 1995 for Commission review of foreign carrier applications.

Timetable:

Action | Date | FR Cite
NPRM | 11/26/12 | 77 FR 70400
NPRM Comment Period End | 12/26/12 |
NPRM Reply Comment Period End | 01/15/13 |
R&O | 06/03/14 | 79 FR 31873
Next Action Undetermined

Regulatory Flexibility Analysis Required: Yes.

Agency Contact: James Ball, Chief, Policy Division, International Bureau, Federal Communications Commission, 445 12th Street SW., Washington, DC 20554, Phone: 202 418-0427, Email: james.ball@fcc.gov.

RIN: 3060-AJ97

475. Comprehensive Review of Licensing and Operating Rules for Satellite Services (IB Docket No. 12-267)

Legal Authority: 47 U.S.C. 154(i); 47 U.S.C. 157(a); 47 U.S.C. 161; 47 U.S.C. 303(c); 47 U.S.C. 303(g); 47 U.S.C. 303(r)

Abstract: The Commission adopted a Notice of Proposed Rulemaking (NPRM) as part of its ongoing efforts to update and streamline regulatory requirements. The NPRM initiated a comprehensive review of part 25 of the Commission's rules, which governs licensing and operation of space stations and Earth stations. The amendments proposed in the NPRM modernize the rules to better reflect evolving technology and reorganize and simplify existing requirements. Furthermore, the changes will remove unnecessary filing requirements for applicants requesting space and Earth station licenses, allowing applicants and licensees to save time, effort, and costs in preparing applications. Other changes are designed to remove unnecessary technical restrictions, enabling applicants to submit fewer waiver requests, which will ease administrative burdens in submitting and processing applications and reduce the amount of time spent on applications by applicants, licensees, and the Commission.

Timetable:

Action | Date | FR Cite
NPRM | 11/25/12 | 77 FR 67172
NPRM Comment Period End | 12/24/12 |
Reply Comment Period End | 01/22/13 |
Report and Order | 02/12/14 | 79 FR 8308
Next Action Undetermined

Regulatory Flexibility Analysis Required: Yes.

Agency Contact: Andrea Kelly, Associate Chief, Satellite Division, Federal Communications Commission, International Bureau, 445 12th Street SW., Washington, DC 20554, Phone: 202 418-7877, Fax: 202 418-0748, Email: andrea.kelly@fcc.gov.

RIN: 3060-AJ98

476. Expanding Broadband and Innovation Through Air-Ground Mobile Broadband Secondary Service for Passengers Aboard Aircraft in the 14.0-14.5 GHZ Band; GN Docket No. 13-114

Legal Authority: 47 U.S.C. 151; 47 U.S.C. 152; 47 U.S.C. 154(i); 47 U.S.C. 301; 47 U.S.C. 302; 47 U.S.C. 303; 47 U.S.C. 324

Abstract: In this docket, the Commission establishes a secondary allocation for the Aeronautical Mobile Service in the 14.0-14.5 GHz band and establishes service, technical, and licensing rules for air-ground mobile broadband. The Notice of Proposed Rulemaking requests public comment on a secondary allocation and service, technical, and licensing rules for air-ground mobile broadband.

Timetable:

Action | Date | FR Cite
NPRM (release date) | 05/09/13 |
Next Action Undetermined

Regulatory Flexibility Analysis Required: Yes.

Agency Contact: Sean O'More, Attorney Advisor, Federal Communications Commission, International Bureau, 445 12th Street SW., Washington, DC 20554, Phone: 202 418-2453, Email: sean.omore@fcc.gov.

RIN: 3060-AK02

477. Terrestrial Use of the 2473-2495 MHZ Band for Low-Power Mobile Broadband Networks; Amendments to Rules of Mobile Satellite Service System; IB Docket No. 13-213

Legal Authority: Not Yet Determined

Abstract: In this docket, the Commission proposes modified rules for the operation of the Ancillary Terrestrial Component of the single Mobile-Satellite Service system operating in the Big GEO S band. The changes would allow Globalstar, Inc. to deploy a low power broadband network using its licensed spectrum at 2483.5-2495 MHz under certain limited technical criteria, and with the same equipment utilize spectrum in the adjacent 2473-2483.5 MHz band, pursuant to technical rules for unlicensed operations in that band.

Timetable:

Action | Date | FR Cite
NPRM | 02/19/14 | 79 FR 9445
NPRM Comment Period End | 05/05/14 |
Next Action Undetermined

Regulatory Flexibility Analysis Required: Yes.

Agency Contact: Lynne Montgomery, Attorney Advisor, Federal Communications Commission, 445 12th Street SW., Washington, DC 20554, Phone: 202 418-2229, Email: lynne.montgomery@fcc.gov.

RIN: 3060-AK16

FEDERAL COMMUNICATIONS COMMISSION (FCC)

International Bureau

Completed Actions

478. Review of Foreign Ownership Policies for Common Carrier and Aeronautical Radio Licensees Under Section 310(B)(4) of the Communications Act Of 1934, as Amended (IB Docket No. 11-133)

Legal Authority: 47 U.S.C. 151; 47 U.S.C. 152; 47 U.S.C. 154; 47 U.S.C. 211; 47 U.S.C. 303(r); 47 U.S.C. 309; 47 U.S.C. 310; 47 U.S.C. 403

Abstract: FCC seeks comment on changes and other options to revise and simplify its policies and procedures implementing section 310(b)(4) for common carrier and aeronautical radio station licensees while continuing to ensure that we have the information we need to carry out our statutory duties. (The NPRM does not address our policies with respect to the application of section 310(b)(4) to broadcast licensees.) The proposals are designed to reduce to the extent possible the regulatory costs and burdens imposed on wireless common carrier and aeronautical applicants, licensees, and spectrum lessees; provide greater transparency and more predictability with respect to the Commission's filing requirements and review process; and facilitate investment from new sources of capital, while continuing to protect important interests related to national security, law enforcement, foreign policy, and trade policy. The streamlining proposals in the NPRM may reduce costs and burdens currently imposed on licensees, including those licensees that are small entities, and accelerate the foreign ownership review process, while continuing to ensure that the Commission has the information it needs to carry out its statutory duties.

Timetable:

Action | Date | FR Cite
NPRM | 08/09/11 | 76 FR 65472
NPRM Comment Period End | 01/04/12 |
First R&O | 08/22/12 | 77 FR 50628
Final Rule | 07/10/13 | 78 FR 41314
Final Rule Effective | 08/09/13

Regulatory Flexibility Analysis Required: Yes.

Agency Contact: James Ball, Chief, Policy Division, International Bureau, Federal Communications Commission, 445 12th Street SW., Washington, DC 20554, Phone: 202 418-0427, Email: james.ball@fcc.gov

RIN: 3060-AJ70

FEDERAL COMMUNICATIONS COMMISSION (FCC)

Media Bureau

Long-Term Actions

479. Competitive Availability of Navigation Devices (CS Docket No. 97-80)

Legal Authority: 47 U.S.C. 549

Abstract: The Commission has adopted rules to address the mandate expressed in section 629 of the Communications Act to ensure the commercial availability of “navigation devices,” the equipment used to access video programming and other services from multichannel video programming systems. Specifically, the Commission required MVPDs to make available by a security element (known as a “cablecard”) separate from the basic navigation device (e.g., cable set-top boxes, digital video recorders, and television receivers with navigation capabilities). The separation of the security element from the host device required by this rule (referred to as the “integration ban”) was designed to enable unaffiliated manufacturers, retailers, and other vendors to commercially market host devices while allowing MVPDs to retain control over their system security. Also, in this proceeding, the Commission adopted unidirectional “plug and play” rules to govern compatibility between MVPDs and navigation devices manufactured by consumer electronics manufacturers not affiliated with cable operators. In the most recent action, the Commission made rule changes to improve the operation of the CableCard regime.

Timetable:

Action | Date | FR Cite
NPRM | 03/05/97 | 62 FR 10011
R&O | 07/15/98 | 63 FR 38089
Order on Recon | 06/02/99 | 64 FR 29599
FNPRM & Declaratory Ruling | 09/28/00 | 65 FR 58255
FNPRM | 01/16/03 | 68 FR 2278
Order and FNPRM | 06/17/03 | 68 FR 35818
Second R&O | 11/28/03 | 68 FR 66728
FNPRM | 11/28/03 | 68 FR 66776
Order on Recon | 01/28/04 | 69 FR 4081
Second R&O | 06/22/05 | 70 FR 36040
Third FNPRM | 07/25/07 | 72 FR 40818
Fourth FNPRM | 05/14/10 | 75 FR 27256
Third R&O | 07/08/11 | 76 FR 40263
Next Action Undetermined

Regulatory Flexibility Analysis Required: Yes.

Agency Contact: Brendan Murray, Attorney Advisor, Policy Division, Federal Communications Commission, Media Bureau, 445 12th Street SW., Washington, DC 20554, Phone: 202 418-1573, Email: brendan.murray@fcc.gov

RIN: 3060-AG28

480. Broadcast Ownership Rules

Legal Authority: 47 U.S.C. 151; 47 U.S.C. 152(a); 47 U.S.C. 154(i); 47 U.S.C. 303; 47 U.S.C. 307; 47 U.S.C. 309 and 310

Abstract: Section 202(h) of the Telecommunications Act of 1996 requires the Commission to review its ownership rules every 4 years and determine whether any such rules are necessary in the public interest as the result of competition. In 2002, the Commission undertook a comprehensive review of its broadcast multiple and cross-ownership limits examining: Cross-ownership of TV and radio stations; local TV ownership limits; national TV cap; and dual network rule. The Report and Order replaced the newspaper/broadcast cross-ownership and radio and TV rules with a tiered approach based on the number of television stations in a market. In June 2006, the Commission adopted a Further Notice of Proposed Rulemaking initiating the 2006 review of the broadcast ownership rules. The further notice also sought comment on how to address the issues raised by the Third Circuit. Additional questions are raised for comment in a Second Further Notice of Proposed Rulemaking. In the Report and Order and Order on Reconsideration, the Commission adopted rule changes regarding newspaper/broadcast cross-ownership, but otherwise generally retained the other broadcast ownership rules currently in effect. For the 2010 quadrennial review, five of the Commission's media rules are the subject of review: The local TV ownership rule; the local radio ownership rule; the newspaper broadcast cross-ownership rule; the radio/TV cross-ownership rule; and the dual network rule.

In the 2014 review, the Commission incorporated the record of the 2010 review, and sought additional data on market conditions and competitive indicators. The Commission also sought comment on whether to eliminate restrictions on newspaper/radio combined ownership and whether to eliminate the radio/television cross-ownership rule in favor of reliance on the local radio rule and the local television rule.

Timetable:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Recon | 02/21/08 | 73 FR 9481
Notice of Inquiry | 06/11/10 | 75 FR 33227
NPRM | 01/19/12 | 77 FR 2868
NPRM Comment Period End | 03/19/12 |
FNPRM | 05/20/14 | 79 FR 29010
Next Action Undetermined

Regulatory Flexibility Analysis Required: Yes.

Agency Contact: Hillary DeNigro, Chief, Industry Analysis Division, Media Bureau, Federal Communications Commission, 445 12th Street SW., Washington, DC 20554, Phone: 202 418-7334, Email: hillary.denigro@fcc.gov.

RIN: 3060-AH97

481. Establishment of Rules for Digital Low-Power Television, Television Translator, and Television Booster Stations (MB Docket No. 03-185)

Legal Authority: 47 U.S.C. 309; 47 U.S.C. 336

Abstract: This proceeding initiates the digital television conversion for low-power television (LPTV) and television translator stations. The rules and policies adopted as a result of this proceeding provide the framework for these stations' conversion from analog to digital broadcasting. The Report and Order adopts definitions and permissible use provisions for digital TV translator and LPTV stations. The Second Report and Order takes steps to resolve the remaining issues in order to complete the low-power television digital transition.

Timetable:

Action | Date | FR Cite
NPRM | 09/26/03 | 68 FR 55566
NPRM Comment Period End | 11/25/03 |
R&O | 11/29/04 | 69 FR 69325
FNPRM and MO&O | 10/18/10 | 75 FR 63766
2nd R&O | 07/07/11 | 76 FR 44821
Next Action Undetermined

Regulatory Flexibility Analysis Required: Yes.

Agency Contact: Shaun Maher, Attorney, Video Division, Federal Communications Commission, Mass Media Bureau, 445 12th Street SW., Washington, DC 20554, Phone: 202 418-2324, Fax: 202 418-2827, Email: shaun.maher@fcc.gov.

RIN: 3060-AI38

482. Joint Sales Agreements in Local Television Markets (MB Docket No. 04-256)

Legal Authority: 47 U.S.C. 151 to 152(a); 47 U.S.C. 154(i); 47 U.S.C. 303; . . .

Abstract: A joint sales agreement (JSA) is an agreement with a licensee of a brokered station that authorizes a broker to sell some or all of the advertising time for the brokered station in return for a fee or percentage of revenues paid to the licensee. The Commission has sought comment on whether TV JSAs should be attributed for purposes of determining compliance with the Commission's multiple ownership rules.

In 2014, the Commission determined that for the purposes of applying the broadcast ownership rules, a brokered station will be attributed to a same market brokering station if the JSA covers more than 15 percent of the weekly advertising time of the brokered station. The Commission found that television JSAs have the potential to convey significant influence over stations operations.

Timetable:

Action | Date | FR Cite
NPRM | 08/26/04 | 69 FR 52464
NPRM Comment Period End | 09/27/04 |
R&O | 05/20/14 | 79 FR 28996
Next Action Undetermined

Regulatory Flexibility Analysis Required: Yes.

Agency Contact: Hillary DeNigro, Chief, Industry Analysis Division, Media Bureau, Federal Communications Commission, 445 12th Street SW., Washington, DC 20554, Phone: 202-418-7334, Email: hillary.denigro@fcc.gov.

RIN: 3060-AI55

483. Promoting Diversification of Ownership in the Broadcast Services (MB Docket No. 07-294)

Legal Authority: 47 U.S.C. 151; 47 U.S.C. 152(a); 47 U.S.C. 154(i) and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and Third FNPRM, measures are enacted to increase participation in the broadcasting industry by new entrants and small businesses, including minority- and women-owned businesses. In the Report and Order and Fourth FNPRM, the Commission adopts improvements to its data collection in order to obtain an accurate and comprehensive assessment of minority and female broadcast ownership in the United States. The Memorandum Opinion & Order addressed petitions for reconsideration of the rules, and also sought comment on a proposal to expand the reporting requirements to non attributable interests. Pursuant to a remand from the Third Circuit, the measures adopted in the 2009 Diversity Order were put forth for comment in the NPRM for the 2010 review of the Commission's Broadcast Ownership rules.

The Commission sought additional comment in 2014. As directed by the court, the Commission considered a socially and economic disadvantaged business definition as a possible oasis for favorable regulatory treatment.

Timetable:

Action | Date | FR Cite
R&O | 05/16/08 | 73 FR 28361
Third FNPRM | 05/16/08 | 73 FR 28400
R&O | 05/27/09 | 74 FR 25163
Fourth FNPRM | 05/27/09 | 74 FR 25305
MO&O | 10/30/09 | 74 FR 56131
NPRM | 01/19/12 | 77 FR 2868
5th NPRM | 01/15/13 | 78 FR 2934
6th FNPRM | 01/15/13 | 78 FR 2925
FNPRM | 05/20/14 | 79 FR 29010
Next Action Undetermined

Regulatory Flexibility Analysis Required: Yes.

Agency Contact: Hillary DeNigro, Chief, Industry Analysis Division, Media Bureau, Federal Communications Commission, 445 12th Street SW., Washington, DC 20554, Phone: 202-418-7334, Email: hillary.denigro@fcc.gov.

RIN: 3060-AJ27

484. Amendment of the Commission's Rules Related to Retransmission Consent (MB Docket No. 10-71)

Legal Authority: 47 U.S.C. 154; 47 U.S.C. 325; 47 U.S.C. 534

Abstract: Cable systems and other multichannel video programming distributors are not entitled to retransmit a broadcast station's signal without the station's consent. This consent is known as “retransmission consent.” Since Congress enacted the retransmission consent regime in 1992, there have been significant changes in the video programming marketplace. In this proceeding, comment is sought on a series of proposals to streamline and clarify the Commission's rules concerning or affecting retransmission consent negotiations.

In the 2014 Report and Order, the Commission adopted a rule providing that it is a violation of the duty to negotiate retransmission consent in good faith for a television station that is ranked among the top four stations to negotiate retransmission consent jointly with another such station if the stations are not commonly owned and serve the same geographic market.

Timetable:

Action | Date | FR Cite
NPRM | 03/28/11 | 76 FR 17071
NPRM Comment Period End | 05/27/11 |
R&O | 05/19/14 | 79 FR 28615
Next Action Undetermined

Regulatory Flexibility Analysis Required: Yes.

Agency Contact: Diana Sokolow, Attorney, Policy Division, Federal Communications Commission, Media Bureau, 445 12th Street SW., Washington, DC 20554, Phone: 202 418-2120, Email: diana.sokolow@fcc.gov

RIN: 3060-AJ55

485. Video Description: Implementation of the Twenty-First Century Communications and Video Accessibility Act of 2010 (MB Docket No.11-43)

Legal Authority: 47 U.S.C. 151; 47 U.S.C. 152; 47 U.S.C. 154(i); 47 U.S.C. 303

Abstract: The Twenty-First Century Communications and Video Accessibility Act of 2010 (“CVAA”) requires reinstatement of the video description rules adopted by the Commission in 2000. “Video description,” which is the insertion of narrated descriptions of a television program's key visual elements into natural pauses in the program's dialogue, makes video programming more accessible to individuals who are blind or visually impaired. This proceeding was initiated to enable compliance with the CVAA.

Timetable:

Action | Date | FR Cite
NPRM | 03/18/11 | 76 FR 14856
NPRM Comment Period End | 04/18/11 |
R&O | 09/08/11 | 76 FR 55585
Next Action Undetermined

Regulatory Flexibility Analysis Required: Yes.

Agency Contact: Mary Beth Murphy, Chief, Policy Division, Media Bureau, Federal Communications Commission, 445 12th Street SW., Washington, DC 20554, Phone: 202 418-2132, Email: marybeth.murphy@fcc.gov.

RIN: 3060-AJ56

486. Closed Captioning of Internet Protocol-Delivered Video Programming: Implementation of the Twenty-First Century Communications and Video Accessibility Act of 2010 (MB Docket No. 11-154)

Legal Authority: 47 U.S.C. 154(i); 47 U.S.C. 154(j); 47 U.S.C. 303; 47 U.S.C. 330(b); 47 U.S.C. 613; 47 U.S.C. 617

Abstract: Pursuant to the Commission's responsibilities under the Twenty-First Century Communications and Video Accessibility Act of 2010, this proceeding was initiated to adopt rules to govern the closed captioning requirements for the owners, providers, and distributors of video programming delivered using Internet protocol.

Timetable:

Action | Date | FR Cite
NPRM | 09/28/11 | 76 FR 59963
R&O | 03/20/12 | 77 FR 19480
Order on Recon, FNPRM | 07/02/13 | 78 FR 39691
2nd Order on Recon | 08/05/14 | 79 FR 45354
2nd FNPRM | 08/05/14 | 79 FR 45397
Next Action Undetermined

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AJ67

487. Accessibility of User Interfaces and Video Programming Guides and Menus (MB Docket No. 12-108)

Legal Authority: 47 U.S.C. 151; 47 U.S.C. 154(i); 47 U.S.C. 303(r); 47 U.S.C. 303(aa); 47 U.S.C. 303(bb)

Abstract: This proceeding was initiated to implement sections 204 and 205 of the Twenty-First Century Communications and Video Accessibility Act. These sections generally require that user interfaces on digital apparatus and navigation devices used to view video programming be accessible to and usable by individuals who are blind or visually impaired.

Timetable:

Action | Date | FR Cite
NPRM | 06/18/13 | 78 FR 36478
NPRM Comment Period End | 07/15/13
R&O | 12/20/13 | 78 FR 77210
FNPRM | 12/20/13 | 78 FR 77074
Next Action Undetermined

Regulatory Flexibility Analysis Required: Yes.

Agency Contact: Adam Copeland, Attorney, Policy Division Media Bureau, Federal Communications Commission, 445 12th Street SW., Washington, DC 20554, Phone: 202 418-2120, Email: adam.copeland@fcc.gov.

RIN: 3060-AK11

488. • Network Non-Duplication and Syndicated Exclusivity Rule (MB Docket No. 14-29)

Legal Authority: 47 U.S.C. 151; 47 U.S.C. 154(i); 47 U.S.C. 301; 47 U.S.C. 303(R); 47 U.S.C. 307; 47 U.S.C. 339(b); 47 USC573(b)

Abstract: In this proceeding, the Commission continues to examine whether to eliminate or modify the network no-duplication and syndicated exclusivity rules in light of changes in the video marketplace in the more than 40 years since these rules were adopted.

Timetable:

Action | Date | FR Cite
NPRM | 04/10/14 | 79 FR 19849
NPRM Comment Period End | 05/12/14
Next Action Undetermined

Regulatory Flexibility Analysis Required: Yes.

Agency Contact: Kathy Berthot, Attorney, Policy Div. Media Bureau, Federal Communications Commission, 445 12th Street SW., Washington, DC 20554, Phone: 202 418-2120, Email: kathy.berthot@fcc.gov.

RIN: 3060-AK18

FEDERAL COMMUNICATIONS COMMISSION (FCC)

Office of Managing Director

Long-Term Actions

489. Assessment and Collection of Regulatory Fees

Legal Authority: 47 U.S.C. 159

Abstract: Section 9 of the Communications Act of 1934, as amended, 47 U.S.C. 159, requires the FCC to recover the cost of its activities by assessing and collecting annual regulatory fees from beneficiaries of the activities.

Timetable:

Action | Date | FR Cite
NPRM | 04/06/06 | 71 FR 17410
R&O | 08/02/06 | 71 FR 43842
NPRM | 05/02/07 | 72 FR 24213
R&O | 08/16/07 | 72 FR 45908
FNPRM | 08/16/07 | 72 FR 46010
NPRM | 05/28/08 | 73 FR 30563
R&O | 08/26/08 | 73 FR 50201
FNPRM | 08/26/08 | 73 FR 50285
2nd R&O | 05/12/09 | 74 FR 22104
NPRM and Order | 06/02/09 | 74 FR 26329
R&O | 08/11/09 | 74 FR 40089
NPRM | 04/26/10 | 75 FR 21536
R&O | 07/19/10 | 75 FR 41932
NPRM | 05/26/11 | 76 FR 30605
R&O | 08/10/11 | 76 FR 49333
NPRM | 05/17/12 | 77 FR 29275
R&O | 08/03/12 | 77 FR 46307
NPRM | 08/17/12 | 77 FR 49749
NPRM | 06/10/13 | 78 FR 34612
R&O | 08/23/13 | 78 FR 52433
NPRM | 07/03/14 | 79 FR 37982
R&O | 09/11/14 | 79 FR 54190
Next Action Undetermined

Regulatory Flexibility Analysis Required: Yes

Agency Contact: Roland Helvajian, Office of the Managing Director, Federal Communications Commission, 445 12th Street SW., Washington, DC 20554, Phone: 202 418-0444, Email: roland.helvajian@fcc.gov.

RIN: 3060-AI79

490. Amendment of Part 1 of the Commission's Rules, Concerning Practice and Procedure, Amendment of Cores Registration System; MD Docket No. 10-234

Legal Authority: 47 U.S.C. 154(i); 47 U.S.C. 158(c)(2); 47 U.S.C. 159(c)(2); 47 U.S.C. 303(r); 5 U.S.C. 5514; 31 U.S.C. 7701(c)(1)

Abstract: This Notice of Proposed Rulemaking proposes revisions intended to make the Commission's Registration System (CORES) more feature-friendly and improve the Commission's ability to comply with various statutes that govern debt collection and the collection of personal information by the Federal Government. The proposed modifications to CORES partly include: Requiring entities and individuals to rely primarily upon a single FRN that may, at their discretion, be linked to subsidiary or associated accounts; allowing entities to identify multiple points of contact; eliminating some of our exceptions to the requirement that entities and individuals provide their Taxpayer Identification Number (TIN) at the time of registration; requiring FRN holders to provide their email addresses; modifying CORES log-in procedures; adding attention flags and automated notices that would inform FRN holders of their financial standing before the Commission; and adding data fields to enable FRN holders to indicate their tax-exempt status and notify the Commission of pending bankruptcy proceedings.

Timetable:

Action | Date | FR Cite
NPRM | 02/01/11 | 76 FR 5652
NPRM Comment Period End | 03/03/11
Public Notice | 02/15/11
Next Action Undetermined

Regulatory Flexibility Analysis Required: Yes.

Agency Contact: Warren Firschein, Attorney, Federal Communications Commission, 445 12th Street SW., Washington, DC 20554, Phone: 202 418-0844, Email: warren.firschein@fcc.gov.

RIN: 3060-AJ54

FEDERAL COMMUNICATIONS COMMISSION (FCC)

Public Safety and Homeland Security Bureau

Long-Term Actions

491. Revision of the Rules To Ensure Compatibility With Enhanced 911 Emergency Calling Systems

Legal Authority: 47 U.S.C. 134(i); 47 U.S.C. 151; 47 U.S.C. 201; 47 U.S.C. 208; 47 U.S.C. 215; 47 U.S.C. 303; 47 U.S.C. 309

Abstract: In a series of orders in several related proceedings issued since 1996, the Federal Communications Commission has taken action to improve the quality and reliability of 911 emergency services for wireless phone users. Rules have been adopted governing the availability of basic 911 services and the implementation of enhanced 911 (E911) for wireless services.

Timetable:

Action | Date | FR Cite
FNPRM | 08/02/96 | 61 FR 40374
R&O | 08/02/96 | 61 FR 40348
MO&O | 01/16/98 | 63 FR 2631
Second R&O | 06/28/99 | 64 FR 34564
Third R&O | 11/04/99 | 64 FR 60126
Second MO&O | 12/29/99 | 64 FR 72951
Fourth MO&O | 10/02/00 | 65 FR 58657
FNPRM | 06/13/01 | 66 FR 31878
Order | 11/02/01 | 66 FR 55618
R&O | 05/23/02 | 67 FR 36112
Public Notice | 07/17/02 | 67 FR 46909
Order to Stay | 07/26/02
Order on Recon | 01/22/03 | 68 FR 2914
FNPRM | 01/23/03 | 68 FR 3214
R&O, Second FNPRM | 02/11/04 | 69 FR 6578
Second R&O | 09/07/04 | 69 FR 54037
NPRM | 06/20/07 | 72 FR 33948
NPRM Comment Period End | 09/18/07
R&O | 02/14/08 | 73 FR 8617
Public Notice | 09/25/08 | 73 FR 55473
Comment Period End | 10/18/08
Public Notice | 11/18/09 | 74 FR 59539
Comment Period End | 12/04/09
FNPRM, NOI | 11/02/10 | 75 FR 67321
Second R&O | 11/18/10 | 75 FR 70604
Order, Comment Period Extension | 01/07/11 | 76 FR 1126
Comment Period End | 02/18/11
Final Rule | 04/28/11 | 76 FR 23713
NPRM | 08/04/11 | 76 FR 47114
Second FNPRM | 08/04/11 | 76 FR 47114
3rd R&O | 09/28/11 | 76 FR 59916
NPRM Comment Period End | 11/02/11
3rd FNPRM | 03/28/14 | 79 FR 17820
Order Extending Comment Period | 06/10/14 | 79 FR 33163
3rd FNPRM Comment Period End | 07/14/14
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG34

492. Enhanced 911 Services for Wireline

Legal Authority: 47 U.S.C. 151; 47 U.S.C. 154(i); 47 U.S.C. 201; 47 U.S.C. 222; 47 U.S.C. 251

Abstract: The rules generally will assist State governments in drafting legislation that will ensure that multiline telephone systems are compatible with the enhanced 911 network. The Public Notice seeks comment on whether the Commission, rather than States, should regulate multiline telephone systems, and whether part 68 of the Commission's rules should be revised.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05
NOI | 01/13/11 | 76 FR 2297
NOI Comment Period End | 03/14/11
Public Notice (Release Date) | 05/21/12
Public Notice Comment Period End | 08/06/12
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG60

493. In the Matter of the Communications Assistance for Law Enforcement Act

Legal Authority: 47 U.S.C. 229; 47 U.S.C. 1001 to 1008

Abstract: All of the decisions in this proceeding thus far are aimed at implementation of provisions of the Communications Assistance for Law Enforcement Act.

Timetable:

Action | Date | FR Cite
NPRM | 10/10/97 | 62 FR 63302
Order | 01/13/98 | 63 FR 1943
FNPRM | 11/16/98 | 63 FR 63639
R&O | 01/29/99 | 64 FR 51462
Order | 03/29/99 | 64 FR 14834
Second R&O | 09/23/99 | 64 FR 51462
Third R&O | 09/24/99 | 64 FR 51710
Order on Recon | 09/28/99 | 64 FR 52244
Policy Statement | 10/12/99 | 64 FR 55164
Second Order on Recon | 05/04/01 | 66 FR 22446
Order | 10/05/01 | 66 FR 50841
Order on Remand | 05/02/02 | 67 FR 21999
NPRM | 09/23/04 | 69 FR 56976
First R&O | 10/13/05 | 70 FR 59704
Second R&O | 07/05/06 | 71 FR 38091
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG74

494. Implementation of 911 Act (CC Docket No. 92-105, WT Docket No. 00-110)

Legal Authority: 47 U.S.C. 151; 47 U.S.C. 154(i) and 154(j); 47 U.S.C. 157; 47 U.S.C. 160; 47 U.S.C. 202; 47 U.S.C. 208; 47 U.S.C. 210; 47 U.S.C. 214; 47 U.S.C. 251(e); 47 U.S.C. 301; 47 U.S.C. 303; 47 U.S.C. 308 to 309(j); 47 U.S.C. 310

Abstract: This proceeding was separate from the Commission's proceeding on Enhanced 911 Emergency Systems (E911) in that it intended to implement provisions of the Wireless Communications and Public Safety Act of 1999 through the promotion of public safety by the deployment of a seamless, nationwide emergency communications infrastructure that includes wireless communications services. More specifically, the chief goal of the proceeding is to ensure that all emergency calls are routed to the appropriate local emergency authority to provide assistance. The E911 proceeding goes a step further and was aimed at improving the effectiveness and reliability of wireless 911 dispatchers with additional information on wireless 911 calls.

Timetable:

Action | Date | FR Cite
Fourth R&O, Third NPRM | 09/19/00 | 65 FR 56752
NPRM | 09/19/00 | 65 FR 56757
Fifth R&O, First R&O, and MO&O | 01/14/02 | 67 FR 1643
Final Rule | 01/25/02 | 67 FR 3621
Next Action Undetermined |

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AH90

495. E911 Requirements for IP-Enabled Service Providers (Dockets Nos. GN 11-117, PS 07-114, WC 05-196, WC 04-36)

Legal Authority: 47 U.S.C. 151; 47 U.S.C. 154(i) and 154(j); 47 U.S.C. 251(e); 47 U.S.C. 303(r)

Abstract: The notice seeks comment on what additional steps the Commission should take to ensure that providers of Voice over Internet Protocol services that interconnect with the public switched telephone network to provide ubiquitous and reliable enhanced 911 service.

Timetable:

Action | Date | FR Cite
NPRM | 03/29/04 | 69 FR 16193
NPRM | 06/29/05 | 70 FR 37307
R&O | 06/29/05 | 70 FR 37273
NPRM Comment Period End | 09/12/05
NPRM | 06/20/07 | 72 FR 33948
NPRM Comment Period End | 09/18/07
FNPRM, NOI | 11/02/10 | 75 FR 67321
Order, Extension of Comment Period | 01/07/11 | 76 FR 1126
Comment Period End | 02/18/11 |
2nd FNPRM, NPRM | 08/04/11 | 76 FR 47114
2nd FNPRM Comment Period End | 11/02/11 |
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AI62

496. Commercial Mobile Alert System

Legal Authority: Pub. L. 109-347 title VI; E.O. 13407; 47 U.S.C. 151; 47 U.S.C. 154(i)

Abstract: In the Notice of Proposed Rulemaking (NPRM), the Commission initiated a comprehensive rulemaking to establish a commercial mobile alert system under which commercial mobile service providers may elect to transmit emergency alerts to the public. The Commission has issued three orders adopting CMAS rules as required by statute. Issues raised in an FNPRM regarding testing requirements for noncommercial educational and public broadcast television stations remain outstanding.

Timetable:

Action | Date | FR Cite
NPRM | 01/03/08 | 73 FR 545
NPRM Comment Period End | 02/04/08 |
First R&O | 07/24/08 | 73 FR 43009
Second R&O | 08/14/08 | 73 FR 47550
FNPRM | 08/14/08 | 73 FR 47568
FNPRM Comment Period End | 09/15/08 |
Third R&O | 09/22/08 | 73 FR 54511
Approval of Information Collection for 2nd R&O | 02/13/12 | 77 FR 41331
Order | 02/25/13 | 78 FR 16806
Next Action Undetermined

Regulatory Flexibility Analysis Required: Yes.

Agency Contact: Lisa Fowlkes, Deputy Bureau Chief, Federal Communications Commission, Public Safety and Homeland Security Bureau, 445 12th Street SW., Washington, DC 20554, Phone: 202 418-7452, Email: lisa.fowlkes@fcc.gov.

RIN: 3060-AJ03

497. Wireless E911 Location Accuracy Requirements; PS Docket No. 07-114

Legal Authority: 47 U.S.C. 151; 47 U.S.C. 154; 47 U.S.C. 332

Abstract: This is related to the proceedings in which the FCC has previously acted to improve the quality of all emergency services. Wireless carriers must provide specific automatic location information in connection with 911 emergency calls to Public Safety Answering Points (PSAPs). Wireless licensees must satisfy Enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11 |
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14 |
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AJ52

498. Private Land Radio Services/Miscellaneous Wireless Communications Services

Legal Authority: 47 U.S.C. 151; 47 U.S.C. 152; 47 U.S.C. 301 to 303; 47 U.S.C. 307 to 309; Pub. L. 112-96

Abstract: This action proposes technical rules to protect against harmful radio frequency interference in the spectrum designated for public safety services under the Middle Class Tax Relief and Job Creation Act of 2012.

Timetable:

Action | Date | FR Cite
NPRM | 04/24/13 | 78 FR 24138
NPRM Comment Period End | 05/24/13 |
R&O | 01/06/14 | 79 FR 588
Next Action Undetermined

Regulatory Flexibility Analysis Required: Yes.

Agency Contact: Brian Hurley, Attorney Advisor, Federal Communications Commission, 445 12th Street SW., Washington, DC 20554, Phone: 202 418-2220, Email: brian.hurley@fcc.gov.

RIN: 3060-AJ99

499. • Proposed Amendments to Service Rules Governing Public Safety Narrowband Operations in the 769-775 and 799-805 MHZ Bands

Legal Authority: 47 U.S.C. 151; 47 U.S.C. 160; 47 U.S.C. 201; 47 U.S.C. 303; 47 U.S.C. 337(a); 47 U.S.C. 403

Abstract: This proceeding seeks to amend the Commission's rules to promote spectrum efficiency, interoperability, and flexibility in 700 MHz public safety narrowband operations (769775/799805 MHz).

Timetable:

Action | Date | FR Cite
NPRM | 04/19/13 | 78 FR 23529
Next Action Undetermined

Regulatory Flexibility Analysis Required: Yes.

Agency Contact: Brian Marenco, Electronics Engineer, Federal Communications Commission, 445 12th Street SW., Washington, DC 20554, Phone: 202 418-0838, Email: brian.marenco@fcc.gov.

RIN: 3060-AK19

FEDERAL COMMUNICATIONS COMMISSION (FCC)

Public Safety and Homeland Security Bureau

Completed Actions

500. Development of Operational, Technical, and Spectrum Requirements for Public Safety Communications Requirements

Legal Authority: 47 U.S.C. 151; 47 U.S.C. 154; 47 U.S.C. 160; 47 U.S.C. 201 and 202; 47 U.S.C. 303; 47 U.S.C. 337(a); 47 U.S.C. 403

Abstract: This item takes steps toward developing a flexible regulatory framework to meet vital current and future public safety communications needs.

Timetable:

Action | Date | FR Cite
NPRM | 10/09/97 | 62 FR 60199
Second NPRM | 11/07/97 | 62 FR 60199
First R&O | 11/02/98 | 63 FR 58645
Third NPRM | 11/02/98 | 63 FR 58685
First MO&O | 11/04/99 | 64 FR 60123
Second R&O | 08/08/00 | 65 FR 48393
Fourth NPRM | 08/25/00 | 65 FR 51788
Second MO&O | 09/05/00 | 65 FR 53641
Third MO&O | 11/07/00 | 65 FR 66644
Third R&O | 11/07/00 | 65 FR 66644
Fifth NPRM | 02/16/01 | 66 FR 10660
Fourth R&O | 02/16/01 | 66 FR 10632
Fourth MO&O | 09/27/02 | 67 FR 61002
Sixth NPRM | 11/08/02 | 67 FR 68079
Fifth R&O | 12/13/02 | 67 FR 76697
Seventh NPRM | 04/27/05 | 70 FR 21726
Sixth R&O | 04/27/05 | 70 FR 21671
Eighth NPRM | 04/07/06 | 71 FR 17786
NPRM | 09/21/06 | 71 FR 55149
Ninth NPRM | 01/10/07 | 72 FR 1201
R&O and FNPRM | 05/02/07 | 72 FR 24238
Second R&O | 08/24/07 | 72 FR 48814
Second FNPRM | 05/21/08 | 73 FR 29582
Third FNPRM | 10/03/08 | 73 FR 57750
Third R&O | 01/25/11 | 76 FR 51271
Fourth FNPRM | 01/25/11 | 76 FR 51271
Fourth FNPRM Comment Period End | 05/10/11 |
Fourth R&O | 07/20/11 | 76 FR 62309
Seventh R&O | 07/10/14 | 79 FR 39336

Regulatory Flexibility Analysis Required: Yes.

Agency Contact: Brian Marenco, Electronics Engineer, Federal Communications Commission, 445 12th Street SW., Washington, DC 20554, Phone: 202 418-0838, Email: brian.marenco@fcc.gov.

RIN: 3060-AG85

FEDERAL COMMUNICATIONS COMMISSION (FCC)

Wireless Telecommunications Bureau

Long-Term Actions

501. Reexamination of Roaming Obligations of Commercial Mobile Radio Service Providers

Legal Authority: 47 U.S.C. 151; 47 U.S.C. 152(n); 47 U.S.C. 154(i) and 154(j); 47 U.S.C. 201(b); 47 U.S.C. 251(a); 47 U.S.C. 253; 47 U.S.C. 303(r); 47 U.S.C. 332(c)(1)(B); 47 U.S.C. 309

Abstract: This rulemaking considers whether the Commission should adopt an automatic roaming rule for voice services for Commercial Mobile Radio Services and whether the Commission should adopt a roaming rule for mobile data services.

Timetable:

Action | Date | FR Cite
NPRM | 11/21/00 | 65 FR 69891
NPRM | 09/28/05 | 70 FR 56612
NPRM | 01/19/06 | 71 FR 3029
FNPRM | 08/30/07 | 72 FR 50085
Final Rule | 08/30/07 | 72 FR 50064
Final Rule | 04/28/10 | 75 FR 22263
FNPRM | 04/28/10 | 75 FR 22338
2nd R&O | 05/06/11 | 76 FR 26199
Next Action Undetermined

Regulatory Flexibility Analysis Required: Yes.

Agency Contact: Peter Trachtenberg, Associate Division Chief SCPD, Federal Communications Commission, Wireless Telecommunications Bureau, 445 12th Street SW., Washington, DC 20554, Phone: 202 418-7369, Email: peter.trachtenberg@fcc.gov.

Christina Clearwater, Assistant Division Chief, SCPD, Federal Communications Commission, Wireless Telecommunications Bureau, 445 12th Street SW., Washington, DC 20554, Phone: 202 418-1893, Email: christina.clearwater@fcc.gov.

RIN: 3060-AH83

502. Review of Part 87 of the Commission's Rules Concerning Aviation (WT Docket No. 01-289)

Legal Authority: 47 U.S.C. 154; 47 U.S.C. 303; 47 U.S.C. 307(e)

Abstract: This proceeding is intended to streamline, consolidate, and revise our part 87 rules governing the Aviation Radio Service. The rule changes are designed to ensure these rules reflect current technological advances.

Timetable:

Action | Date | FR Cite
NPRM | 10/16/01 | 66 FR 64785
NPRM Comment Period End | 03/14/02 |
R&O and FNPRM | 10/16/03 |
FNPRM | 04/12/04 | 69 FR 19140
FNPRM Comment Period End | 07/12/04 |
R&O | 06/14/04 | 69 FR 32577
NPRM | 12/06/06 | 71 FR 70710
NPRM Comment Period End | 03/06/07 |
Final Rule | 12/06/06 | 71 FR 70671
3rd R&O | 03/29/11 | 76 FR 17347
Stay Order | 03/29/11 | 76 FR 17353
3rd FNPRM | 01/30/13 | 78 FR 6276
Next Action Undetermined

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AI35

503. Implementation of the Commercial Spectrum Enhancement Act (CSEA) and Modernization of the Commission's Competitive Bidding Rules and Procedures (WT Docket No. 05-211)

Legal Authority: 15 U.S.C. 79; 47 U.S.C. 151; 47 U.S.C. 154(i) and (j); 47 U.S.C. 155; 47 U.S.C. 155(c); 47 U.S.C. 157; 47 U.S.C. 225; 47 U.S.C. 303(r); 47 U.S.C. 307; 47 U.S.C. 309; 47 U.S.C. 309(j); 47 U.S.C. 325(e); 47 U.S.C. 334; 47 U.S.C. 336; 47 U.S.C. 339; 47 U.S.C. 554

Abstract: This proceeding implements rules and procedures needed to comply with the Commercial Spectrum Enhancement Act (CSEA). It establishes a mechanism for reimbursing Federal agencies' out-of-spectrum auction proceeds for the cost of relocating their operations from certain “eligible frequencies” that have been reallocated from Federal to non-Federal use. It also seeks to improve the Commission's ability to achieve Congress' directives with regard to designated entities and to ensure that, in accordance with the intent of Congress, every recipient of its designated entity benefits is an entity that uses its licenses to directly provide facilities-based telecommunications services for the benefit of the public.

Timetable:

Action | Date | FR Cite
NPRM | 06/14/05 | 70 FR 43372
NPRM Comment Period End | 08/26/05 |
Declaratory Ruling | 06/14/05 | 70 FR 43322
R&O | 01/24/06 | 71 FR 6214
FNPRM | 02/03/06 | 71 FR 6992
FNPRM Comment Period End | 02/24/06 |
Second R&O | 04/25/06 | 71 FR 26245
Order on Recon of Second R&O | 06/02/06 | 71 FR 34272
NPRM | 06/21/06 | 71 FR 35594
NPRM Comment Period End | 08/21/06 |
Reply Comment Period End | 09/19/06 |
Second Order and Recon of Second R&O | 04/04/08 | 73 FR 18528
Order | 02/01/12 | 77 FR 16470
Next Action Undetermined

Regulatory Flexibility Analysis Required: Yes.

Agency Contact: Kelly Quinn, Assistant Chief, Auctions and Spectrum Access Division, Federal Communications Commission, 445 12th Street SW., Washington, DC 20554, Phone: 202 418-7384, Email: kelly.quinn@fcc.gov.

RIN: 3060-AI88

504. Facilitating the Provision of Fixed and Mobile Broadband Access, Educational, and Other Advanced Services in the 2150-2162 and 2500-2690 MHZ Bands

Legal Authority: 47 U.S.C. 154; 47 U.S.C. 301 to 303; 47 U.S.C. 307; 47 U.S.C. 309; 47 U.S.C. 332; 47 U.S.C. 336 and 337

Abstract: The Commission seeks comment on whether to assign Educational Broadband Service (EBS) spectrum in the Gulf of Mexico. It also seeks comment on how to license unassigned and available EBS spectrum. Specifically, we seek comment on whether it would be in the public interest to develop a scheme for licensing unassigned EBS spectrum that avoids mutual exclusivity; we ask whether EBS eligible entities could participate fully in a spectrum auction; we seek comment on the use of small business size standards and bidding credits for EBS if we adopt a licensing scheme that could result in mutually exclusive applications; we seek comment on the proper market size and size of spectrum blocks for new EBS licenses; and we seek comment on issuing one license to a State agency designated by the Governor to be the spectrum manager, using frequency coordinators to avoid mutually exclusive EBS applications, as well as other alternative licensing schemes. The Commission must develop a new licensing scheme for EBS in order to achieve the Commission's goal of facilitating the development of new and innovative wireless services for the benefit of students throughout the Nation. In addition, the Commission has sought comment on a proposal intended to make it possible to use wider channel bandwidths for the provision of broadband services in these spectrum bands. The proposed changes may permit operators to use spectrum more efficiently, and to provide higher data rates to consumers, thereby advancing key goals of the National Broadband Plan.

Timetable:

Action | Date | FR Cite
NPRM | 04/02/03 | 68 FR 34560
NPRM Comment Period End | 09/08/03 |
FNPRM | 07/29/04 | 69 FR 72048
FNPRM Comment Period End | 01/10/03 |
R&O | 07/29/04 | 69 FR 72020
MO&O | 04/27/06 | 71 FR 35178
FNPRM | 03/20/08 | 73 FR 26067
FNPRM Comment Period End | 07/07/08 |
MO&O | 03/20/08 | 73 FR 26032
MO&O | 09/28/09 | 74 FR 49335
FNPRM | 09/28/09 | 74 FR 49356
FNPRM Comment Period End | 10/13/09 |
R&O | 06/03/10 | 75 FR 33729
FNPRM | 05/27/11 | 76 FR 32901
FNPRM Comment Period End | 07/22/11 |
R&O | 07/16/14 | 79 FR 41448
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ12

505. Amendment of the Rules Regarding Maritime Automatic Identification Systems (WT Docket No. 04-344)

Legal Authority: 47 U.S.C. 154; 47 U.S.C. 302(a); 47 U.S.C. 303; 47 U.S.C. 306; 47 U.S.C. 307(e); 47 U.S.C. 332; 47 U.S.C. 154(i); 47 U.S.C. 161

Abstract: This action adopts additional measures for domestic implementation of Automatic Identification Systems (AIS), an advanced marine vessel tracking and navigation technology that can significantly enhance our Nation's homeland security as well as maritime safety.

Timetable:

Action | Date | FR Cite
Final Rule | 01/29/09 | 74 FR 5117
Final Rule Effective | 03/02/09 |
Petition for Recon | 04/03/09 | 74 FR 15271
Final Rule | 05/26/11 | 76 FR 33653
Next Action Undetermined

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AJ16

506. Service Rules for Advanced Wireless Services in the 2155-2175 MHZ Band; WT Docket No. 13-185

Legal Authority: 47 U.S.C. 151 and 152; 47 U.S.C. 154(i); 47 U.S.C. 157; 47 U.S.C. 160; 47 U.S.C. 201; 47 U.S.C. 214; 47 U.S.C. 301

Abstract: This proceeding explores the possible uses of the 2155-2175 MHz frequency band (AWS-3) to support the introduction of new advanced wireless services, including third generations as well as future generations of wireless systems. Advanced wireless systems could provide for a wide range of voice data and broadband services over a variety of mobile and fixed networks. The Notice of Proposed Rulemaking (NPRM) sought comment on what service rules should be adopted in the AWS-3 band. We requested comment on rules for licensing this spectrum in a manner that will permit it to be fully and promptly utilized to bring advanced wireless services to American consumers. Our objective is to allow for the most effective and efficient use of the spectrum in this band, while also encouraging development of robust wireless broadband services. We proposed to apply our flexible, market-oriented rules to the band in order to meet this objective. Thereafter, the Commission released a Further Notice of Proposed Rulemaking (FNPRM), seeking comment on the Commission's proposed AWS-3 rules, which include adding 5 megahertz of spectrum (2175-80 MHz) to the AWS-3 band, and requiring licensees of that spectrum to provide—using up to 25 percent of its wireless network capacity—free, 2-way broadband Internet service at engineered data rates of at least 768 kbps downstream.

Timetable:

Action | Date | FR Cite
NPRM | 11/14/07 | 72 FR 64013
NPRM Comment Period End | 01/14/08 |
FNPRM | 06/25/08 | 73 FR 35995
FNPRM Comment Period End | 08/11/08 |
FNPRM | 08/20/13 | 78 FR 51559
FNPRM Comment Period End | 10/16/13 |
R&O | 06/04/14 | 79 FR 32366
Next Action Undetermined

Regulatory Flexibility Analysis Required: Yes.

Agency Contact: Peter Daronco, Deputy Div. Chief, Broadband Division, Federal Communications Commission, Wireless Telecommunications Bureau, 445 12th Street SW., Washington, DC 20554, Phone: 202 418-7235, Email: peter.daronco@fcc.gov.

RIN: 3060-AJ19

507. Rules Authorizing the Operation of Low Power Auxiliary Stations in the 698-806 MHZ Band (WT Docket No. 08-166) Public Interest Spectrum Coalition, Petition for Rulemaking Regarding Low Power Auxiliary

Legal Authority: 47 U.S.C. 151 and 152; 47 U.S.C. 154(i) and 154(j); 47 U.S.C. 301 and 302(a); 47 U.S.C. 303; 47 U.S.C. 303(r); 47 U.S.C. 304; 47 U.S.C. 307 to 309; 47 U.S.C. 316; 47 U.S.C. 332; 47 U.S.C. 336 and 337

Abstract: On January 15, 2010, the Commission released a Report and Order that prohibits the distribution and sale of wireless microphones that operate in the 700 MHz band (698-806 MHz, channels 52-69) and includes a number of provisions to clear these devices from that band. These actions help complete an important part of the DTV transition by clearing the 700 MHz band to enable the rollout of communications services for public safety and the deployment of next generation wireless devices. On January 15, 2010, the Commission also released a Further Notice of Proposed Rulemaking seeking comment on the operation of low power auxiliary stations, including wireless microphones, in the core TV bands (channels 2-51, excluding channel 37). Among the issues the Commission is considering in the Further Notice are revisions to its rules to expand eligibility for licenses to operate wireless microphones under part 74; the operation of wireless microphones on an unlicensed basis in the core TV bands under part 15; technical rules to apply to low power wireless audio devices, including wireless microphones, operating in the core TV bands on an unlicensed basis under part 15 of the rules; and long-term solutions to address the operation of wireless microphones and the efficient use of the core TV spectrum. On October 5, 2012, the Wireless Telecommunications Bureau and the Office of Engineering and Technology released a Public Notice asking that the record be refreshed on two issues in the Further Notice of Proposed Rulemaking: whether the Commission should provide a limited expansion of license eligibility under part 74 of the rules applicable to low power auxiliary stations, and what steps the Commission should take to promote more efficient use of spectrum by wireless microphones.

Timetable:

Action | Date | FR Cite
NPRM | 09/03/08 | 73 FR 51406
NPRM Comment Period End | 10/20/08 |
R&O | 01/22/10 | 75 FR 3622
FNPRM | 01/22/10 | 75 FR 3682
FNPRM Comment Period End | 03/22/10 |
Public Notice | 10/05/12 |
Second R&O | 07/14/14 | 79 FR 40680
Next Action Undetermined

Regulatory Flexibility Analysis Required: Yes.

Agency Contact: G. William Stafford, Attorney, Federal Communications Commission, 445 12th Street SW., Washington, DC 20554, Phone: 202 418-0563, Fax: 202 418-3956, Email: bill.stafford@fcc.gov.

RIN: 3060-AJ21

508. Amendment of the Commission's Rules To Improve Public Safety Communications in the 800 MHZ Band, and To Consolidate the 800 MHZ and 900 MHZ Business and Industrial/Land Transportation Pool Channels

Legal Authority: 47 U.S.C. 151; 47 U.S.C. 154(i); 47 U.S.C. 303; 47 U.S.C. 309; 47 U.S.C. 332

Abstract: This action adopts rules that retain the current site-based licensing paradigm for the 900 MHz B/ILT “white space”; adopts interference protection rules applicable to all licensees operating in the 900 MHz B/ILT spectrum; and lifts, on a rolling basis, the freeze placed on applications for new 900 MHz B/ILT licenses in September 2004—the lift being tied to the completion of rebanding in each 800 MHz National Public Safety Planning Advisory Committee (NPSPAC) region.

Timetable:

Action | Date | FR Cite
NPRM | 03/18/05 | 70 FR 13143
NPRM Comment Period End | 06/12/05 | 70 FR 23080
Final Rule | 12/16/08 | 73 FR 67794
Petition for Recon | 03/12/09 | 74 FR 10739
Order on Recon | 07/17/13 | 78 FR 42701
Next Action Undetermined

Regulatory Flexibility Analysis Required: Yes.

Agency Contact: Joyce Jones, Attorney Advisor, Wireless Telecommunications Bureau, Federal Communications Commission, 445 12th Street SW., Washington, DC 20554, Phone: 202 418-1327, Email: joyce.jones@fcc.gov.

RIN: 3060-AJ22

509. Amendment of Part 101 To Accommodate 30 MHZ Channels in the 6525-6875 MHZ Band and Provide Conditional Authorization on Channels in the 21.8-22.0 and 23.0-23.2 GHZ Band (WT Docket No. 04-114)

Legal Authority: 47 U.S.C. 151 and 152; 47 U.S.C. 154(i); 47 U.S.C. 157; 47 U.S.C. 160; 47 U.S.C. 201; 47 U.S.C. 214; 47 U.S.C. 301 to 303; 47 U.S.C. 307 to 310; 47 U.S.C. 319; 47 U.S.C. 324; 47 U.S.C. 332 and 333

Abstract: The Commission seeks comments on modifying its rules to authorize channels with bandwidths of as much as 30 MHz in the 6525-6875 MHz band. We also propose to allow conditional authorization on additional channels in the 21.8-22.0 and 23.0-23.2 GHz bands.

Timetable:

Action | Date | FR Cite
NPRM | 06/29/09 | 74 FR 36134
NPRM Comment Period End | 07/22/09 |
R&O | 06/11/10 | 75 FR 41767
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ28

510. In the Matter of Service Rules for the 698 to 746, 747 to 762, and 777 to 792 MHZ Bands

Legal Authority: 47 U.S.C. 151; 47 U.S.C. 154(i); 47 U.S.C. 303(r); 47 U.S.C. 309

Abstract: This is one of several docketed proceedings involved in the establishment of rules governing wireless licenses in the 698-806 MHz band (the 700 MHz band). This spectrum is being vacated by television broadcasters in TV channels 52-69. It is being made available for wireless services, including public safety and commercial services, as a result of the digital television (DTV) transition. This docket has to do with service rules for the commercial services, and is known as the 700 MHz Commercial Services proceeding.

Timetable:

Action | Date | FR Cite
NPRM | 08/03/06 | 71 FR 48506
NPRM | 09/20/06 |
FNPRM | 05/02/07 | 72 FR 24238
FNPRM Comment Period End | 05/23/07 |
R&O | 07/31/07 | 72 FR 48814
Order on Recon | 09/24/07 | 72 FR 56015
Second FNPRM | 05/14/08 | 73 FR 29582
Second FNPRM Comment Period End | 06/20/08 |
Third FNPRM | 09/05/08 | 73 FR 57750
Third FNPRM Comment Period End | 11/03/08 |
Second R&O | 02/20/09 | 74 FR 8868
Final Rule | 03/04/09 | 74 FR 8868
Order on Recon | 03/01/13 | 78 FR 19424
Next Action Undetermined

Regulatory Flexibility Analysis Required: Yes.

Agency Contact: Paul D'Ari, Spectrum and Competition Policy Division, Federal Communications Commission, Wireless Telecommunications Bureau, 445 12th Street SW., Washington, DC 20554, Phone: 202 418-1550, Fax: 202 418-7447, Email: paul.dari@fcc.gov.

RIN: 3060-AJ35

511. National Environmental Act Compliance for Proposed Tower Registrations; In the Matter of Effects on Migratory Birds

Legal Authority: 47 U.S.C. 151; 47 U.S.C. 154(i); 47 U.S.C. 303(q); 47 U.S.C. 303(r); 47 U.S.C. 309(g); 42 U.S.C. 4321 et seq.

Abstract: On April 14, 2009, American Bird Conservancy, Defenders of Wildlife, and National Audubon Society filed a Petition for Expedited Rulemaking and Other Relief. The petitioners request that the Commission adopt on an expedited basis a variety of new rules which they assert are necessary to comply with environmental statutes and their implementing regulations. This proceeding addresses the Petition for Expedited Rulemaking and Other Relief.

Timetable:

Action | Date | FR Cite
NPRM | 11/22/06 | 71 FR 67510
NPRM Comment Period End | 02/20/07 |
New NPRM Comment Period End | 05/23/07 |
Order on Remand | 01/26/12 | 77 FR 3935
Next Action Undetermined

Regulatory Flexibility Analysis Required: Yes.

Agency Contact: Jeff Steinberg, Deputy Chief, Spectrum and Competition Division, Federal Communications Commission, Wireless Telecommunications Bureau, 445 12th Street SW., Washington, DC 20554, Phone: 202 418-0896, Email: jeffrey.steinberg@fcc.gov.

RIN: 3060-AJ36

512. Amendment of Part 90 of the Commission's Rules

Legal Authority: 47 U.S.C. 154; 47 U.S.C. 303

Abstract: This proceeding considers rule changes impacting miscellaneous part 90 Private Land Mobile Radio rules.

Timetable:

Action | Date | FR Cite
NPRM | 06/13/07 | 72 FR 32582
FNPRM | 04/14/10 | 75 FR 19340
Order on Recon | 05/27/10 | 75 FR 29677
5th R&O | 05/16/13 | 78 FR 28749
Petition for Reconsideration | 07/23/13 | 78 FR 44091
Next Action Undetermined

Regulatory Flexibility Analysis Required: Yes.

Agency Contact: Rodney P Conway, Engineer, Federal Communications Commission, Wireless Telecommunications Bureau, 445 12th Street SW., Washington, DC 20554, Phone: 202 418-2904, Fax: 202 418-1944, Email: rodney.conway@fcc.gov.

RIN: 3060-AJ37

513. Amendment of Part 101 of the Commission's Rules for Microwave Use and Broadcast Auxiliary Service Flexibility

Legal Authority: 47 U.S.C. 151 and 152; 47 U.S.C. 154(i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipoint communications.

Timetable:

Action | Date | FR Cite
NPRM | 08/05/10 | 75 FR 52185
NPRM Comment Period End | 11/22/10 |
R&O | 09/27/11 | 76 FR 59559
FNPRM | 09/27/11 | 76 FR 59614
FNPRM Comment Period End | 10/25/11 |
R&O | 09/05/12 | 77 FR 54421
FNPRM | 09/05/12 | 77 FR 54511
FNPRM Comment Period End | 10/22/12 |
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ47

514. 2004 and 2006 Biennial Regulatory Reviews—Streamlining and Other Revisions of the Commission's Rules Governing Construction, Marking, and Lighting of Antenna Structures

Legal Authority: 47 U.S.C. 154(i)-(j) and 161; 47 U.S.C. 303(q)

Abstract: In this NPRM, in WT Docket No. 10-88, the Commission seeks comment on revisions to part 17 of the Commission's rules governing construction, marking, and lighting of antenna structures. The Commission initiated this proceeding to update and modernize the part 17 rules. These proposed revisions are intended to improve compliance with these rules and allow the Commission to enforce them more effectively, helping to better ensure the safety of pilots and aircraft passengers nationwide. The proposed revisions would also remove outdated and burdensome requirements without compromising the Commission's statutory responsibility to prevent antenna structures from being hazards or menaces to air navigation.

Timetable:

Action | Date | FR Cite
NPRM | 05/21/10 | 75 FR 28517
NPRM Comment Period End | 07/20/10 |
NPRM Reply Comment Period End | 08/19/10 |
R&O (release date) | 08/08/14 |
Next Action Undetermined

Regulatory Flexibility Analysis Required: Yes.

Agency Contact: Dan Abeyta, Attorney, Federal Communications Commission, 445 12th Street SW., Washington, DC 20554, Phone: 202 418-1538, Email: dan.abeyta@fcc.gov.

RIN: 3060-AJ50

515. Universal Service Reform Mobility Fund (WT Docket No. 10-208)

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding establishes the Mobility Fund which provides an initial infusion of funds toward solving persistent gaps in mobile services through targeted, one-time support for the build-out of current and next-generation wireless infrastructure in areas where these services are unavailable.

Timetable:

Action | Date | FR Cite
NPRM | 10/14/10 | 75 FR 67060
NPRM Comment Period End | 01/18/11 |
R&O | 11/29/11 | 76 FR 73830
FNPRM | 12/16/11 | 76 FR 78384
R&O | 12/28/11 | 76 FR 81562
2nd R&O | 07/03/12 | 77 FR 39435
4th Order on Recon | 08/14/12 | 77 FR 48453
Next Action Undetermined

Regulatory Flexibility Analysis Required: Yes.

Agency Contact: Scott Mackoul, Attorney Advisor, Federal Communications Commission, Wireless Telecommunications Bureau, 445 12th Street SW., Washington, DC 20554, Phone: 202 418-0660.

RIN: 3060-AJ58

516. Fixed and Mobile Services in the Mobile Satellite Service Bands at 1525-1559 MHZ and 1626.5-1660.5 MHZ, 1610-1626.5 MHZ and 2483.5-2500 MHZ, and 2000-2020 MHZ and 2180-2200 MHZ

Legal Authority: 47 U.S.C. 151 and 154; 47 U.S.C. 303 and 310

Abstract: The Commission proposes steps to make additional spectrum available for new investment in mobile broadband networks while ensuring that the United States maintains robust mobile satellite service capabilities. Mobile broadband is emerging as one of America's most dynamic innovation and economic platforms. Yet tremendous demand growth will soon test the limits of spectrum availability. 90 megahertz of spectrum allocated to the Mobile Satellite Service (MSS)—in the 2 GHz band, Big LEO band, and L-band—are potentially available for terrestrial mobile broadband use. The Commission seeks to remove regulatory barriers to terrestrial use, and to promote additional investments, such as those recently made possible by a transaction between Harbinger Capital Partners and SkyTerra Communications, while retaining sufficient market wide MSS capability. The Commission proposes to add co-primary Fixed and Mobile allocations to the 2 GHz band, consistent with the International Table of Allocations. This allocation modification is a precondition for more flexible licensing of terrestrial services within the band. Second, the Commission proposes to apply the Commission's secondary market policies and rules applicable to terrestrial services to all transactions involving the use of MSS bands for terrestrial services in order to create greater predictability and regulatory parity with bands licensed for terrestrial mobile broadband service. The Commission also requests comment on further steps we can take to increase the value, utilization, innovation, and investment in MSS spectrum generally.

Timetable:

Action | Date | FR Cite
NPRM | 07/15/10 | 75 FR 49871
NPRM Comment Period End | 09/30/10 |
R&O | 04/06/11 | 76 FR 31252
Next Action Undetermined

Regulatory Flexibility Analysis Required: Yes.

Agency Contact: Blaise Scinto, Chief, Broadband Div., WTB, Federal Communications Commission, 445 12th Street SW., Washington, DC 20554. Phone: 202 418-1380, Email: blaise.scinto@fcc.gov.

RIN: 3060-AJ59

517. Improving Spectrum Efficiency Through Flexible Channel Spacing and Bandwidth Utilization for Economic Area-Based 800 MHZ Specialized Mobile Radio Licensees (WT Docket Nos. 12-64 and 11-110)

Legal Authority: 47 U.S.C. 151; 47 U.S.C. 152; 47 U.S.C. 154; 47 U.S.C. 301; 47 U.S.C. 302(a); 47 U.S.C. 303; 47 U.S.C. 307; 47 U.S.C. 308

Abstract: This proceeding was initiated to allow EA-based 800 MHz SMR licensees in 813.5-824/858.5-869 MHz to exceed the channel spacing and bandwidth limitation in section 90.209 of the Commission's rules, subject to conditions.

Timetable:

Action | Date | FR Cite
NPRM | 03/29/12 | 77 FR 18991
NPRM Comment Period End | 04/13/12 |
R&O | 05/24/12 | 77 FR 33972
Petition for Recon Public Notice | 08/16/12 | 77 FR 53163
Petition for Recon PN Comment Period End | 09/27/12 |
Next Action Undetermined

Regulatory Flexibility Analysis Required: Yes.

Agency Contact: Luis Zambrano, Federal Communications Commission, 445 12th Street SW., Washington, DC 20554, Phone: 202 418-7925, Email: luis.zambrano@fcc.gov.

RIN: 3060-AJ71

518. Service Rules for Advanced Wireless Services in the 2000-2020 MHZ and 2180-2200 MHZ Bands

Legal Authority: 47 U.S.C. 151; 47 U.S.C. 153; 47 U.S.C. 154(i); 47 U.S.C. 227; 47 U.S.C. 301; 47 U.S.C. 302; 47 U.S.C. 303; 47 U.S.C. 307; 47 U.S.C. 308; 47 U.S.C. 309; 47 U.S.C. 310; 47 U.S.C. 316; 47 U.S.C. 319; 47 U.S.C. 324; 47 U.S.C. 332; 47 U.S.C. 333

Abstract: In the Report and Order, the Commission increased the Nation's supply of spectrum for mobile broadband by removing unnecessary barriers to flexible use of spectrum currently assigned to the Mobile Satellite Service (MSS) in the 2 GHz band. This action carries out a recommendation in the National Broadband Plan that the Commission enable the provision of stand-alone terrestrial services in this spectrum. We do so by adopting service, technical, assignment, and licensing rules for this spectrum. These rules are designed to provide for flexible use of this spectrum, to encourage innovation and investment in mobile broadband, and to provide a stable regulatory environment in which broadband deployment could develop.

Timetable:

Action | Date | FR Cite
NPRM Comment Period End | 04/17/12 |
NPRM | 04/17/12 | 77 FR 22720
R&O | 05/05/13 | 78 FR 8229
Next Action Undetermined

Regulatory Flexibility Analysis Required: Yes.

Agency Contact: Peter Daronco, Deputy Div. Chief, Broadband Division, Federal Communications Commission, Wireless Telecommunications Bureau, 445 12th Street SW., Washington, DC 20554, Phone: 202 418-7235, Email: peter.daronco@fcc.gov.

RIN: 3060-AJ73

519. Promoting Interoperability in the 700 MHZ Commercial Spectrum; Requests for Waiver and Extension of Lower 700 MHZ Band Interim Construction Benchmark Deadlines (WT Docket Nos. 12-69 & 12-332)

Legal Authority: 47 U.S.C. 151; 47 U.S.C. 152; 47 U.S.C. 154(i); 47 U.S.C. 154(j); 47 U.S.C. 301; 47 U.S.C. 302(a); 47 U.S.C. 303(b); 47 U.S.C. 303(e); 47 U.S.C. 303(f); 47 U.S.C. 303(g); 47 U.S.C. 303(r); 47 U.S.C. 304; 47 U.S.C. 307(a); 47 U.S.C. 309(j)(3); 47 U.S.C. 316(a)(1); 47 CFR 1.401 et seq.

Abstract: In the Report and Order, the Commission took steps to implement an industry solution to provide interoperable Long Term Evolution (LTE) service in the lower 700 MHz band in an efficient and effective manner to improve choice and quality for consumers of mobile services.

Timetable:

Action | Date | FR Cite
NPRM | 04/02/12 | 77 FR 19575
NPRM Comment Period End | 06/01/12 |
R&O and Order of Proposed Modification | 11/05/13 | 78 FR 66298
Next Action Undetermined

Regulatory Flexibility Analysis Required: Yes.

Agency Contact: Jennifer Salhus, Attorney, Federal Communications Commission, 445 12th Street SW., Washington, DC 20554, Phone: 202 418-2823, Email: jsalhus@fcc.gov.

RIN: 3060-AJ78

520. Service Rules for Advanced Wireless Services of the Middle Class Tax Relief and Job Creation Act of 2012 Related to the 1915-1920 MHZ and 1995-2000 MHZ Bands (WT Docket No. 12-357)

Legal Authority: 47 U.S.C. 301; 47 U.S.C. 302; 47 U.S.C. 303; 47 U.S.C. 307; 47 U.S.C. 308; 47 U.S.C. 309; 47 U.S.C. 310

Abstract: The Commission proposes rules for the Advanced Wireless Services (AWS) H Block that would make available 10 megahertz of flexible use. The proposal would extend the widely deployed Personal Communications Services (PCS) band, which is used by the four national providers as well as regional and rural providers to offer mobile service across the nation. The additional spectrum for mobile use will help ensure that the speed, capacity, and ubiquity of the Nation's wireless networks keeps pace with the skyrocketing demand for mobile services.

Today's action is a first step in implementing the Congressional directive in the Middle Class Tax Relief and Job Creation Act of 2012 (Spectrum Act) that we grant new initial licenses for the 1915-1920 MHz and 1995-2000 MHz bands (the Lower H Block and Upper H Block, respectively) through a system of competitive bidding—unless doing so would cause harmful interference to commercial mobile service licenses in the 1930-1985 MHz (PCS downlink) band. The potential for harmful interference to the PCS downlink band relates only to the Lower H Block transmissions, and may be addressed by appropriate technical rules, including reduced power limits on H Block devices. We, therefore, propose to pair and license the Lower H Block and the Upper H Block for flexible use, including mobile broadband, with an aim to assign the licenses through competitive bidding in 2013. In the event that we conclude that the Lower H Block cannot be used without causing harmful interference to PCS, we propose to license the Upper H Block for full power, and seek comment on appropriate use for the Lower H Block, including Unlicensed PCS.

Timetable:

Action | Date | FR Cite
NPRM | 01/08/13 | 78 FR 1166
NPRM Comment Period End | 03/06/13 |
R&O | 08/16/13 | 78 FR 50213
Next Action Undetermined

Regulatory Flexibility Analysis Required: Yes.

Agency Contact: Peter Daronco, Deputy Div. Chief, Broadband Division, Federal Communications Commission, Wireless Telecommunications Bureau, 445 12th Street SW., Washington, DC 20554, Phone: 202 418-7235, Email: peter.daronco@fcc.gov.

RIN: 3060-AJ86

521. Amendment of Parts 1, 2, 22, 24, 27, 90 and 95 of the Commission's Rules to Improve Wireless Coverage Through the Use of Signal Boosters (WT Docket No. 10-4)

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters, and creates two classes of signal boosters—Consumer and Industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Recon | 06/06/13 | 78 FR 34015
Next Action Undetermined

Regulatory Flexibility Analysis Required: Yes.

Agency Contact: Amanda Huetinck, Attorney-Advisor, WTB, Federal Communications Commission, 445 12th Street SW., Washington, DC 20554, Phone: 202 418-7090, Email: amanda.huetinck@fcc.gov.

RIN: 3060-AJ87

522. Amendment of the Commission's Rules Governing Certain Aviation Ground Station Equipment (Squitter) (WT Docket Nos. 10-61 and 09-42)

Legal Authority: 48 Stat 1066, 1082 as amended; 47 U.S.C. 154; 47 U.S.C. 303; 47 U.S.C. 307(e); 47 U.S.C. 151 to 156; 47 U.S.C. 301

Abstract: This action amends part 87 rules to authorize new ground station technologies to promote safety and allow use of frequency 1090 MHz by aeronautical utility mobile stations for airport surface detection equipment commonly referred to as “squitters,” to help reduce collisions between aircraft and airport ground vehicles.

Timetable:

Action | Date | FR Cite
NPRM | 04/28/10 | 75 FR 22352
R&O | 03/01/13 | 78 FR 61023
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AJ88

523. Amendment of the Commission's Rules Concerning Commercial Radio Operators (WT Docket No. 10-177)

Legal Authority: 47 U.S.C. 154(i); 47 U.S.C. 303(r); 47 U.S.C. 332(a)2

Abstract: This action amends parts 0, 1, 13, 80, and 87 of the Commission's rules concerning commercial radio operator licenses for maritime and aviation radio stations in order to reduce administrative burdens on the telecom industry.

Timetable:

Action | Date | FR Cite
NPRM | 10/29/10 | 75 FR 66709
R&O | 05/29/13 | 78 FR 32165
Next Action Undetermined

Regulatory Flexibility Analysis Required: Yes.

Agency Contact: Stanislava Kimball, Attorney Advisor, Federal Communications Commission, 445 12th Street SW., Washington, DC 20554, Phone: 202 418-1306, Email: stanislava.kimball@fcc.gov.

RIN: 3060-AJ91

524. Radiolocation Operations in the 78-81 GHZ Band; WT Docket No. 11-202

Legal Authority: 47 U.S.C. 154; 47 U.S.C. 303; 47 U.S.C. 307(e)

Abstract: We amend our rules to permit the certification, licensing, and use of foreign object debris (FOD) detection radar equipment in the 78-81 GHz band. The presence of FOD on airport runways, taxiways, aprons, and ramps poses a significant threat to the safety of air travel. FOD detection radar equipment will be authorized on a licensed basis under part 90 of our rules. Authorization of other potential radiolocation uses of the 78-81 GHz band will be considered in other proceedings.

Timetable:

Action | Date | FR Cite
NPRM | 01/11/12 | 77 FR 1661
R&O | 07/26/13 | 78 FR 45072
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AK04

525. Amendment of Part 90 of the Commission's Rules To Permit Terrestrial Trunked Radio (Tetra) Technology; WT Docket No. 11-6

Legal Authority: 47 U.S.C. 154(i); 47 U.S.C. 161; 47 U.S.C. 303(g); 47 U.S.C. 303(r); 47 U.S.C. 332(c)(7)

Abstract: We modify our rules to permit the certification and use of Terrestrial Trunked Radio (TETRA) equipment under part 90 of our rules. TETRA is a spectrally efficient digital technology with the potential to provide valuable benefits to land mobile radio users, such as higher security and lower latency than comparable technologies. It does not, however, conform to all of our current part 90 technical rules. In the Notice of Proposed Rule Making and Order (NPRM) in this proceeding, the Commission proposed to amend part 90 to accommodate TETRA technology. We conclude that modifying the part 90 rules to permit the certification and use of TETRA equipment in two bands—the 450-470 MHz portion of the UHF band (421-512 MHz) and Business/Industrial Land Transportation 800 MHz band channels (809-824/854-869 MHz) that are not in the National Public Safety Planning Advisory Committee (NPSPAC) portion of the band-will give private land mobile radio (PLMR) licensees additional equipment alternatives without increasing the potential for interference or other adverse effects on other licensees.

Timetable:

Action | Date | FR Cite
NPRM | 05/11/11 | 76 FR 27296
R&O | 10/10/12 | 77 FR 61535
Order on Recon | 08/09/13 | 78 FR 48627
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AK05

526. Promoting Technological Solutions To Combat Wireless Contraband Device Use in Correctional Facilities

Legal Authority: 47 U.S.C. 151; 47 U.S.C. 152; 47 U.S.C. 154(i); 47 U.S.C. 154(j); 47 U.S.C. 301; 47 U.S.C. 303(a); 47 U.S.C. 303(b); 47 U.S.C. 307; 47 U.S.C. 308; 47 U.S.C. 309; 47 U.S.C. 310; 47 U.S.C. 332

Abstract: In this proceeding, the Commission proposes rules to encourage development of multiple technological solutions to combat the use of contraband wireless devices in correctional facilities nationwide. The Commission proposes to streamline rules governing lease agreement modifications between wireless providers and managed access system operators. It also proposes to require wireless providers to terminate service to a contraband wireless device.

Timetable:

Action | Date | FR Cite
NPRM | 06/18/13 | 78 FR 36469
NPRM Comment Period End | 08/08/13 |
Next Action Undetermined

Regulatory Flexibility Analysis Required: Yes.

Agency Contact: Melissa Conway, Attorney Advisor, Wireless Bureau, Federal Communications Commission, 445 12th Street SW., Washington, DC 20554, Phone: 202 418-2887, Email: melissa.conway@fcc.gov.

RIN: 3060-AK06

FEDERAL COMMUNICATIONS COMMISSION (FCC)

Wireless Telecommunications Bureau

Completed Actions

527. Service Rules for Advanced Wireless Services in the 1915 to 1920 MHZ, 1995 to 2000 MHZ, 2020 to 2025 MHZ and 2175 to 2180 MHZ Bands

Legal Authority: 47 U.S.C. 151 and 152; 47 U.S.C. 154(i); 47 U.S.C. 157; 47 U.S.C. 160; 47 U.S.C. 201; 47 U.S.C. 214; 47 U.S.C. 301; . . .

Abstract: This proceeding explores the possible uses of the 1915-1920 MHz, 1995-2000 MHz, 2020-2025 MHz, and 2175-2180 MHz bands (collectively AWS-2) to support the introduction of new advanced wireless services, including third generations as well as future generations of wireless systems. Advanced wireless systems could provide for a wide range of voice data and broadband services over a variety of mobile and fixed networks. The Notice of Proposed Rulemaking (NPRM) sought comment on what service rules should be adopted in the AWS-2 band. We requested comment on rules for licensing this spectrum in a manner that will permit it to be fully and promptly utilized to bring advanced wireless services to American consumers. Our objective is to allow for the most effective and efficient use of the spectrum in this band, while also encouraging development of robust wireless broadband services. Thereafter, the Commission released a Further Notice of Proposed Rulemaking (FNPRM), seeking comment on the Commission's proposed rules for the 1915-1920 MHz and 1995-2000 MHz bands. In addition, the Commission proposed to add 5 megahertz of spectrum (2175-80 MHz band) to the 2155-2175 MHz band, and would require the licensee of the 2155-2180 MHz band to provide—using up to 25 percent of its wireless network capacity—free, 2-way broadband Internet service at engineered data rates of at least 768 kbps downstream.

Timetable:

Action | Date | FR Cite
NPRM | 11/02/04 | 69 FR 63489
NPRM Comment Period End | 01/24/05 |
FNPRM | 06/25/08 | 73 FR 35995

Regulatory Flexibility Analysis Required: Yes.

Agency Contact: Peter Daronco, Deputy Div. Chief, Broadband Division, Federal Communications Commission, Wireless Telecommunications Bureau, 445 12th Street SW., Washington, DC 20554, Phone: 202 418-7235, Email: peter.daronco@fcc.gov.

RIN: 3060-AJ20

FEDERAL COMMUNICATIONS COMMISSION (FCC)

Wireline Competition Bureau

Proposed Rule Stage

528. • Comprehensive Review of the Part 32 Uniform System of Accounts (WC Docket No. 14-130)

Legal Authority: 47 U.S.C. 151; 47 U.S.C. 154(i); 47 U.S.C. 201(b); 47 U.S.C. 219; 47 U.S.C. 220

Abstract: The Commission initiates a rulemaking proceeding to review the Uniform System of Accounts (USOA) to consider ways to minimize the compliance burdens on incumbent local exchange carriers while ensuring that the agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

Timetable:

Action | Date | FR Cite
NPRM | 09/15/14 | 79 FR 54942
NPRM Comment Period End | 11/14/14
NPRM Reply Comment Period End | 12/15/14

Regulatory Flexibility Analysis Required: Yes.

Agency Contact: Robin Cohn, Attorney-Advisor, Federal Communications Commission, 445 12th Street SW., Washington, DC 20554, Phone: 202 418-2747, Email: robin.cohn@fcc.gov.

RIN: 3060-AK20

FEDERAL COMMUNICATIONS COMMISSION (FCC)

Wireline Competition Bureau

Long-Term Actions

529. Implementation of the Universal Service Portions of the 1996 Telecommunications Act

Legal Authority: 47 U.S.C. 151 et seq.

Abstract: The Telecommunications Act of 1996 expanded the traditional goal of universal service to include increased access to both telecommunications and advanced services—such as high-speed Internet—for all consumers at just, reasonable, and affordable rates. The Act established principles for universal service that specifically focused on increasing access to evolving services for consumers living in rural and insular areas, and for consumers with low incomes. Additional principles called for increased access to high-speed Internet in the nation's schools, libraries, and rural health care facilities. The FCC established four programs within the Universal Service Fund to implement the statute. The four programs are: Connect America Fund (formally known as High-Cost Support) for rural areas, Lifeline (for low-income consumers), including initiatives to expand phone service for Native Americans Schools and Libraries (E-rate), Rural Health Care,The Universal Service Fund is paid for by contributions from telecommunications carriers, including wireline and wireless companies, and interconnected Voice over Internet Protocol (VoIP) providers, including cable companies that provide voice service, based on an assessment on their interstate and international end-user revenues. The Universal Service Administrative Company, or USAC, administers the four programs and collects monies for the Universal Service Fund under the direction of the FCC. On July 26, 2012, the Commission released a Public Notice seeking comments on a proposed survey of urban rates for fixed voice and fixed broadband residential services. On September 12, 2012, the Commission released a Public Notice seeking comments on the 2013 Modification of Average Schedule high-cost loop support formula proposed by NECA. On November 16, 2012, the Commission released a fifth Order on Reconsideration clarifying certain aspects of the USF/ICC Transformation Order regarding financial reporting obligations and requests for waivers in response to various petitions for reconsideration and/or clarification. On November 19, 2012, the Commission released a Further Notice of Proposed Rulemaking seeking comment on two alternative approaches to advancing broadband objectives in price cap territories, using the remaining 2012 Connect America Phase I funding. On November 23, 2012, the Commission released a public notice seeking comments on proposed revisions to the annual Telecommunications Reporting Worksheet, FCC Forms 499A-Q and their accompanying instructions. On December 13, 2012, the Commission released an Order approving NECA's 2013 proposing modifications to the formula used to calculate interstate USF High-Cost Loop Support for Average Schedule Companies. On December 21, 2012, the Commission released a Report and Order launching the Healthcare Connect Fund to expand health care provider access to broadband and foster state and regional broadband health care networks, and creates a Skilled Nursing Facility Pilot Program. On January 2, 2013, the Commission released a Public Notice announcing the comment cycle regarding modifications to Connect America Phase I Further Notice of Proposed Rulemaking. On January 17, 2013, the Commission released a Public Notice seeking further comment on issues related to the implementation of the Remote Areas Fund. On January 30, 2013, the Commission released a Public Notice announcing the high-cost loop support benchmarks to be used by NECA for 2013. On February 8, 2013, the Commission released a Public Notice seeking to further develop the record on issues relating to Connect America Phase II support for price cap carriers serving areas outside of the contiguous United States. On February 12, 2013, the Commission released a Public Notice seeking updates and corrections to TelcoMaster table for the Connect America Cost Model. On February 26, 2013, the Commission released a Public Notice seeking comments on issues related to the service obligations for support recipients and unsubsidized competitors in Phase II of Connect America. On February 27, 2013, the Commission released a Sixth Order on Reconsideration and Memorandum Opinion and Order addressing several issues related to the benchmarking rule and other changes made to high-cost universal service support for rate-of-return carriers in the USF/ICC Transformation Order. On March 26, 2013, the Commission released a Public Notice announcing updated 2013 high-cost loop support benchmarks, accounting for the changes adopted in the Sixth Order on Reconsideration, and making minor corrections to the input variables. On April 15, 2013, the Commission released a Memorandum Opinion and Order granting limited forbearance to Lifeline-only eligible telecommunications carrier from requirements of the Communications Act and the Commission's rules. On April 22, 2013, the Commission released a Report and Order adopting platform, addressing the design of the network and network engineering for Connect America Cost Model to estimate forward-looking costs of Connect America Phase II deployment. On May 16, 2013, the Commission released a Report and Order announcing the parameters for the Connect America Phase II. On May 22, 2013, the Commission released a Report and Order providing for a second round of Connect America Phase I incremental funding in 2013 to further leverage private investment in rural America and accelerate the availability of broadband to consumers who lack access. On May 23, 2013, the Commission released a Public Notice providing guidance regarding the 2013 Lifeline recertification process. On June 7, 2013, the Commission released a Public Notice announcing the availability of version 3.1.3 of the Connect America Cost Model (CAM). On June 17, 2013, the Commission announced the release of illustrative model outputs from running the Connect America Cost Model version 3.1.3 and of model methodology documentation. On June 25, 2013, the Commission released an Order codifying the Commission's requirement that eligible telecommunications carriers verify a Lifeline subscriber's eligibility for Lifeline service before activating such service. On July 16, 2013, the Commission released an Order on Reconsideration requiring carriers to report updates to planned Phase I deployments and provide a limited waiver of the deadline for carriers to accept second round Phase I support. On July 23, 2013, the Commission released a Notice of Proposed Rulemaking initiating a review and update of the E-rate program to focus on 21st-century broadband needs of schools and libraries. On July 26, 2013, the Commission released an Order adopting several measures to provide greater clarity regarding universal service high-cost support amounts that the rate-of-return carriers will receive in 2014. On August 29, 2013, the Commission released a Public Notice announcing availability of version 3.2 of the CAM (including illustrative results), and seeks comment on certain adjustments to reflect the unique circumstances and operating conditions in the non-contiguous areas of the United States. On October 31, 2013, the Commission released an Order specifying service obligations of price cap carriers that accept Connect America Phase II model-based support through the State-level commitment process, and addressed how to determine what areas are considered as served by an unsubsidized competitor. On December 2, 2013, the Commission released a Public Notice announcing Availability of Version 4.0 of the Connect America Fund Phase II Cost Model.

Timetable:

Action | Date | FR Cite
Recommended Decision Federal-State Joint Board, Universal Service | 11/08/96 | 61 FR 63778
First R&O | 05/08/97 | 62 FR 32862
Second R&O | 05/08/97 | 62 FR 32862
Order on Recon | 07/10/97 | 62 FR 40742
R&O and Second Order on Recon | 07/18/97 | 62 FR 41294
Second R&O, and FNPRM | 08/15/97 | 62 FR 47404
Third R&O | 10/14/97 | 62 FR 56118
Second Order on Recon | 11/26/97 | 62 FR 65036
Fourth Order on Recon | 12/30/97 | 62 FR 2093
Fifth Order on Recon | 06/22/98 | 63 FR 43088
Fifth R&O | 10/28/98 | 63 FR 63993
Eighth Order on Recon | 11/21/98 |
Second Recommended Decision | 11/25/98 | 63 FR 67837
Thirteenth Order on Recon | 06/09/99 | 64 FR 30917
FNPRM | 06/14/99 | 64 FR 31780
FNPRM | 09/30/99 | 64 FR 52738
Fourteenth Order on Recon | 11/16/99 | 64 FR 62120
Fifteenth Order on Recon | 11/30/99 | 64 FR 66778
Tenth R&O | 12/01/99 | 64 FR 67372
Ninth R&O and Eighteenth Order on Recon | 12/01/99 | 64 FR 67416
Nineteenth Order on Recon | 12/30/99 | 64 FR 73427
Twentieth Order on Recon | 05/08/00 | 65 FR 26513
Public Notice | 07/18/00 | 65 FR 44507
Twelfth R&O, MO&O and FNPRM | 08/04/00 | 65 FR 47883
FNPRM and Order | 11/09/00 | 65 FR 67322
FNPRM | 01/26/01 | 66 FR 7867
R&O and Order on Recon | 03/14/01 | 66 FR 16144
NPRM | 05/08/01 | 66 FR 28718
Order | 05/22/01 | 66 FR 35107
Fourteenth R&O and FNPRM | 05/23/01 | 66 FR 30080
FNPRM and Order | 01/25/02 | 67 FR 7327
NPRM | 02/15/02 | 67 FR 9232
NPRM and Order | 02/15/02 | 67 FR 10846
FNPRM and R&O | 02/26/02 | 67 FR 11254
NPRM | 04/19/02 | 67 FR 34653
Order and Second FNPRM | 12/13/02 | 67 FR 79543
NPRM | 02/25/03 | 68 FR 12020
Public Notice | 02/26/03 | 68 FR 10724
Second R&O and FNPRM | 06/20/03 | 68 FR 36961
Twenty-Fifth Order on Recon, R&O, Order, and FNPRM | 07/16/03 | 68 FR 41996
NPRM | 07/17/03 | 68 FR 42333
Order | 07/24/03 | 68 FR 47453
Order | 08/06/03 | 68 FR 46500
Order and Order on Recon | 08/19/03 | 68 FR 49707
Order on Remand, MO&O, FNPRM | 10/27/03 | 68 FR 69641
R&O, Order on Recon, FNPRM | 11/17/03 | 68 FR 74492
R&O, FNPRM | 02/26/04 | 69 FR 13794
R&O, FNPRM | 04/29/04 |
NPRM | 05/14/04 | 69 FR 3130
NPRM | 06/08/04 | 69 FR 40839
Order | 06/28/04 | 69 FR 48232
Order on Recon & Fourth R&O | 07/30/04 | 69 FR 55983
Fifth R&O and Order | 08/13/04 | 69 FR 55097
Order | 08/26/04 | 69 FR 57289
Second FNPRM | 09/16/04 | 69 FR 61334
Order & Order on Recon | 01/10/05 | 70 FR 10057
Sixth R&O | 03/14/05 | 70 FR 19321
R&O | 03/17/05 | 70 FR 29960
MO&O | 03/30/05 | 70 FR 21779
NPRM & FNPRM | 06/14/05 | 70 FR 41658
Order | 10/14/05 | 70 FR 65850
Order | 10/27/05 |
NPRM | 01/11/06 | 71 FR 1721
Report Number 2747 | 01/12/06 | 71 FR 2042
Order | 02/08/06 | 71 FR 6485
FNPRM | 03/15/06 | 71 FR 13393
R&O and NPRM | 07/10/06 | 71 FR 38781
Order | 01/01/06 | 71 FR 6485
Order | 05/16/06 | 71 FR 30298
MO&O and FNPRM | 05/16/06 | 71 FR 29843
R&O | 06/27/06 | 71 FR 38781
Public Notice | 08/11/06 | 71 FR 50420
Order | 09/29/06 | 71 FR 65517
Public Notice | 03/12/07 | 72 FR 36706
Public Notice | 03/13/07 | 72 FR 40816
Public Notice | 03/16/07 | 72 FR 39421
Notice of Inquiry | 04/16/07 |
NPRM | 05/14/07 | 72 FR 28936
Recommended Decision | 11/20/07 |
Order | 02/14/08 | 73 FR 8670
NPRM | 03/04/08 | 73 FR 11580
NPRM | 03/04/08 | 73 FR 11591
R&O | 05/05/08 | 73 FR 11837
Public Notice | 07/02/08 | 73 FR 37882
NPRM | 08/19/08 | 73 FR 48352
Notice of Inquiry | 10/14/08 | 73 FR 60689
Order on Remand, R&O, FNPRM | 11/12/08 | 73 FR 66821
R&O | 05/22/09 | 74 FR 2395
Order & NPRM | 03/24/10 | 75 FR 10199
R&O and MO&O | 04/08/10 | 75 FR 17872
NOI and NPRM | 05/13/10 | 75 FR 26906
Order and NPRM | 05/28/10 | 75 FR 30024
NPRM | 06/09/10 | 75 FR 32699
NPRM | 08/09/10 | 75 FR 48236
NPRM | 09/21/10 | 75 FR 56494
R&O | 12/03/10 | 75 FR 75393
Order | 01/27/11 | 76 FR 4827
NPRM | 03/02/11 | 76 FR 11407
NPRM | 03/02/11 | 76 FR 11632
NPRM | 03/23/11 | 76 FR 16482
Order and NPRM | 06/27/11 | 76 FR 37307
R&O | 12/28/11 | 76 FR 81562
Order | 03/09/12 | 77 FR 14297
R&O | 03/30/12 | 77 FR 19125
Order | 05/23/12 | 77 FR 30411
3rd Order on Recon | 05/24/12 | 77 FR 30904
Public Notice | 05/31/12 | 77 FR 32113
FNPRM | 06/07/12 | 77 FR 33896
Public Notice | 07/26/12 | 77 FR 43773
Order | 08/30/12 | 77 FR 52616
Public Notice | 02/28/12 | 77 FR 76345
Public Notice | 08/29/12 | 77 FR 52279
Public Notice | 12/12/12 | 77 FR 74010
5th Order on Recon | 01/17/13 | 78 FR 3837
Public Notice | 02/07/13 | 78 FR 9020
Public Notice | 02/21/13 | 78 FR 12006
Public Notice | 02/22/13 | 78 FR 12269
Public Notice | 03/15/13 | 78 FR 16456
6th Order on Recon and MO&O | 03/19/13 | 78 FR 16808
MO&O | 05/08/13 | 78 FR 26705
R&O | 05/06/13 | 78 FR 26269
R&O | 06/03/13 | 78 FR 32991
Public Notice | 06/13/13 | 78 FR 35632
R&O | 06/26/13 | 78 FR 38227
Order on Recon | 08/08/13 | 78 FR 48622
Order | 03/01/13 | 78 FR 13935
Public Notice | 12/19/13 | 78 FR 76789
Order | 02/28/14 | 79 FR 11366
Public Notice | 03/11/14 | 79 FR 13599
Public Notice | 03/17/14 | 79 FR 17070
Public Notice | 04/18/14 | 79 FR 21924
R&O | 05/21/14 | 79 FR 29111
Order | 05/23/14 | 79 FR 33705
FNPRM | 07/09/14 | 79 FR 39163
R&O | 07/31/14 | 79 FR 44352
R&O | 08/19/14 | 79 FR 49160
Next Action Undetermined

Regulatory Flexibility Analysis Required: Yes.

Agency Contact: Nakesha Woodward, Program Support Assistant, Federal Communications Commission, 445 12th Street SW., Washington, DC 20554. Phone: 202 418-1502. Email: kesha.woodward@fcc.gov.

RIN: 3060-AF85

530. 2000 Biennial Regulatory Review—Telecommunications Service Quality Reporting Requirements

Legal Authority: 47 U.S.C. 154(i) and 154(j); 47 U.S.C. 201(b); 47 U.S.C. 303(r); 47 U.S.C. 403

Abstract: The NPRM proposed to eliminate our current service quality reports (ARMIS Report 43-05 and 43-06) and replace them with a more consumer-oriented report. The NPRM proposed to reduce the reporting categories from more than 30 to 6, and addressed the needs of carriers, consumers, State public utility commissions, and other interested parties.

On February 15, 2005, the Commission adopted an Order that extended the Federal-State Joint Conference on Accounting Issues until March 1, 2007.

On September 6, 2008, the Commission adopted an MO&O granting conditional forbearance from the Armis 43-05 and 43-06 reporting requirements to all carriers that are required to file these reports.

Timetable:

Action | Date | FR Cite
NPRM | 12/04/00 | 65 FR 75657
Order | 02/06/02 | 67 FR 5670
Order | 03/22/05 | 70 FR 14466
MO&O | 10/15/08 | 73 FR 60997
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax: 202 418-6768, Email: cathy.zima@fcc.gov.

RIN: 3060-AH72

531. Access Charge Reform and Universal Service Reform

Legal Authority: 47 U.S.C. 151; 47 U.S.C. 154(i) and 154(j); 47 U.S.C. 201 to 205; 47 U.S.C. 254; 47 U.S.C. 403

Abstract: On October 11, 2001, the Commission adopted an Order reforming the interstate access charge and universal service support system for rate-of-return incumbent carriers. The Order adopts three principal reforms. First, the Order modifies the interstate access rate structure for small carriers to align it more closely with the manner in which costs are incurred. Second, the Order removes implicit support for universal service from the rate structure and replaces it with explicit, portable support. Third, the Order permits small carriers to continue to set rates based on the authorized rate of return of 11.25 percent. The Order became effective on January 1, 2002, and the support mechanism established by the Order was implemented beginning July 1, 2002.

The Commission also adopted a Further Notice of Proposed Rulemaking (FNPRM) seeking additional comment on proposals for incentive regulation, increased pricing flexibility for rate-of-return carriers, and proposed changes to the Commission's “all-or-nothing” rule. Comments on the FNPRM were due on February 14, 2002, and reply comments on March 18, 2002.

On February 12, 2004, the Commission adopted a Second Report and Order resolving several issues on which the Commission sought comment in the FNPRM. First, the Commission modified the “all-or-nothing” rule to permit rate-of-return carriers to bring recently acquired price cap lines back to rate-of-return regulation. Second, the Commission granted rate-of-return carriers the authority immediately to provide geographically deaveraged transport and special access rates, subject to certain limitations. Third, the Commission merged Long Term Support (LTS) with Interstate Common Line Support (ICLS). The Commission also adopted a Second FNPRM seeking comment on two specific plans that propose establishing optional alternative regulation mechanisms for rate-of-return carriers. In conjunction with the consideration of those alternative regulation proposals, the Commission sought comment on modification that would permit a rate-of-return carrier to adopt an alternative regulation plan for some study areas, while retaining rate-of-return regulation for other of its study areas. Comments on the Second FNPRM were due on April 23, 2004, and May 10, 2004.

Timetable:

Action | Date | FR Cite
NPRM | 01/25/01 | 66 FR 7725
NPRM Comment Period End | 02/26/01
FNPRM | 11/30/01 | 66 FR 59761
FNPRM Comment Period End | 12/31/01
R&O | 11/30/01 | 66 FR 59719
Second FNPRM | 03/23/04 | 69 FR 13794
Second FNPRM Comment Period End | 04/23/04
Order | 05/06/04 | 69 FR 25325
Next Action Undetermined

Regulatory Flexibility Analysis Required: Yes.

Agency Contact: Douglas Slotten, Attorney-Advisor, Federal Communications Commission, Wireline Competition Bureau, 445 12th Street SW., Washington, DC 20554, Phone: 202 418-1572, Email: douglas.slotten@fcc.gov.

RIN: 3060-AH74

532. National Exchange Carrier Association Petition

Legal Authority: 47 U.S.C. 151 and 152; 47 U.S.C. 201 and 202; . . .

Abstract: In a Notice of Proposed Rulemaking (NPRM) released on July 19, 2004, the Commission initiated a rulemaking proceeding to examine the proper number of end user common line charges (commonly referred to as subscriber line charges or SLCs) that carriers may assess upon customers that obtain derived channel T-1 service where the customer provides the terminating channelization equipment and upon customers that obtain Primary Rate Interface (PRI) Integrated Service Digital Network (ISDN) service.

Timetable:

Action | Date | FR Cite
NPRM | 08/13/04 | 69 FR 50141
NPRM Comment Period End | 11/12/04
Next Action Undetermined

Regulatory Flexibility Analysis Required: Yes.

Agency Contact: Douglas Slotten, Attorney-Advisor, Federal Communications Commission, Wireline Competition Bureau, 445 12th Street SW., Washington, DC 20554, Phone: 202 418-1572, Email: douglas.slotten@fcc.gov.

RIN: 3060-AI47

533. IP-Enabled Services; WC Docket No. 04-36

Legal Authority: 47 U.S.C. 151 and 152; . . .

Abstract: The notice seeks comment on ways in which the Commission might categorize or regulate IP-enabled services. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

Timetable:

Action | Date | FR Cite
NPRM | 03/29/04 | 69 FR 16193
NPRM Comment Period End | 07/14/04
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Public Notice | 10/14/09 | 74 FR 52808
Announcement of Effective Date | 03/19/10 | 75 FR 13235
Public Notice | 05/20/10 | 75 FR 28249
Public Notice | 06/11/10 | 75 FR 33303
NPRM, Order, & NOI | 06/19/13 | 78 FR 36679
Next Action Undetermined

Regulatory Flexibility Analysis Required: Yes.

Agency Contact: Melissa Kirkel, Attorney-Advisor, Federal Communications Commission, Wireline Competition Bureau, 445 12th Street SW., Washington, DC 20554, Phone: 202 418-7958, Fax: 202 418-1413, Email: melissa.kirkel@fcc.gov.

RIN: 3060-AI48

534. Establishing Just and Reasonable Rates for Local Exchange Carriers (WC Docket No. 07-135)

Legal Authority: Not Yet Determined

Abstract: The Federal Communications Commission (Commission) is examining whether its existing rules governing the setting of tariffed rates by local exchange carriers (LECs) provide incentives and opportunities for carriers to increase access demand endogenously with the result that the tariff rates are no longer just and reasonable. The Commission tentatively concluded that it must revise its tariff rules so that it can be confident that tariffed rates remain just and reasonable even if a carrier experiences or induces significant increases in access demand. The Commission sought comment on the types of activities that caused increases in interstate access demand and the effects of such demand increases on the cost structures of LECs. The Commission also sought comment on several means of ensuring just and reasonable rates going forward. The NPRM invited comment on potential traffic stimulation by rate-of-return LECs, price cap LECs, and competitive LECs, as well as other forms of intercarrier traffic stimulation. Comments were received on December 17, 2007, and reply comments were received on January 16, 2008. On February 8, 2011, the Commission adopted a Further Notice of Proposed Rulemaking seeking comment on proposed rule revisions to address access stimulation. The Commission sought comment on a proposal to require rate-of-return LECs and competitive LECs to file revised tariffs if they enter into or have existing revenue sharing agreements. The proposed tariff filing requirements vary depending on the type of LEC involved. The Commission also sought comment on other record proposals and on possible rules for addressing access stimulation in the context of intra-MTA call terminations by CMRS providers. Comments were filed on April 1, 2011, and reply comments were filed on April 18, 2011. In the USF/ICC Transformation Order, we defined access stimulation. The access stimulation definition we adopted has two conditions: (1) A revenue sharing condition; and (2) an additional traffic volume condition, which is met where the LEC either; (a) has a three-to-one interstate terminating-to-originating traffic ratio in a calendar month; or (b) has had more than a 100 percent growth in interstate originating and/or terminating switched access minutes of use in a month compared to the same month in the preceding year. If both conditions are satisfied, the LEC generally must file revised tariffs to account for its increased traffic.

Timetable:

Action | Date | FR Cite
NPRM | 11/15/07 | 72 FR 64179
NPRM Comment Period End | 12/17/07
FNPRM | 03/02/11 | 76 FR 11632
R&O and FNPRM | 12/08/11 | 76 FR 76623
Next Action Undetermined

Regulatory Flexibility Analysis Required: Yes.

Agency Contact: Douglas Slotten, Attorney-Advisor, Federal Communications Commission, Wireline Competition Bureau, 445 12th Street SW., Washington, DC 20554, Phone: 202 418-1572, Email: douglas.slotten@fcc.gov.

RIN: 3060-AJ02

535. Jurisdictional Separations

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze on the part 36 category relationships and jurisdictional cost allocation factors for a period of 5 years, pending comprehensive reform of the part 36 separations rules. In 2006, the Commission adopted an Order and Further Notice of Proposed Rulemaking, which extended the separations freeze for a period of 3 years and sought comment on comprehensive reform. In 2009, the Commission adopted a Report and Order extending the separations freeze an additional year to June 2010. In 2010, the Commission adopted a Report and Order extending the separations freeze for an additional year to June 2011. In 2011, the Commission adopted a Report and Order extending the separations freeze for an additional year to June 2012. In 2012, the Commission adopted a Report and Order extending the separations freeze for an additional 2 years to June 2014. In 2014, the Commission adopted a Report and Order extending the separations freeze for an additional 3 years to June 2017.

Timetable:

Action | Date | FR Cite
NPRM | 11/05/97 | 62 FR 59842
NPRM Comment Period End | 12/10/97
Order | 06/21/01 | 66 FR 33202
Order and FNPRM | 05/26/06 | 71 FR 29882
Order and FNPRM Comment Period End | 08/22/06
R&O | 05/15/09 | 74 FR 23955
R&O | 05/25/10 | 75 FR 30301
R&O | 05/27/11 | 76 FR 30840
R&O | 05/23/12 | 77 FR 30410
R&O | 06/13/14 | 79 FR 36232
Next Action Undetermined

Regulatory Flexibility Analysis Required: Yes.

Agency Contact: John Hunter, Attorney-Advisor, Federal Communications Commission, 445 12th Street SW., Washington, DC 20554, Phone: 202 418-1520, Email: john.hunter@fcc.gov

RIN: 3060-AJ06

536. Service Quality, Customer Satisfaction, Infrastructure and Operating Data Gathering (WC Docket Nos. 08-190, 07-139, 07-204, 07-273, 07-21)

Legal Authority: 47 U.S.C. 151 to 155; 47 U.S.C. 160 and 161; 47 U.S.C. 20 to 205; 47 U.S.C. 215; 47 U.S.C. 218 to 220; 47 U.S.C. 251 to 271; 47 U.S.C. 303(r) and 332; 47 U.S.C. 403; 47 U.S.C. 502 and 503

Abstract: This NPRM tentatively proposes to collect infrastructure and operating data that is tailored in scope to be consistent with Commission objectives from all facilities-based providers of broadband and telecommunications. Similarly, the NPRM also tentatively proposes to collect data concerning service quality and customer satisfaction from all facilities-based providers of broadband and telecommunications. The NPRM seeks comment on the proposals, on the specific information to be collected, and on the mechanisms for collecting information.

On June 27, 2013, the Commission adopted a Report and Order addressing collection of broadband deployment data from facilities-based providers.

Timetable:

Action | Date | FR Cite
NPRM | 10/15/08 | 73 FR 60997
NPRM Comment Period End | 11/14/08
Reply Comment Period End | 12/15/08
NPRM | 02/28/11 | 76 FR 12308
NPRM Comment Period End | 03/30/11
Reply Comment Period End | 04/14/11
R&O | 08/13/13 | 78 FR 49126
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax:, 202 418-6768, Email: cathy.zima@fcc.gov.

RIN: 3060-AJ14

537. Form 477; Development of Nationwide Broadband Data To Evaluate Reasonable and Timely Deployment of Advanced Services to All Americans

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
Next Action Undetermined

Regulatory Flexibility Analysis Required: Yes.

Agency Contact: Carol Simpson, Deputy Chief, Policy Division, Federal Communications Commission, Public Safety and Homeland Security Bureau, 445 12th Street SW., Washington, DC 20554, Phone: 202 418-2391, Fax: 202 418-2816, Email: carol.simpson@fcc.gov.

RIN: 3060-AJ15

538. Preserving the Open Internet; Broadband Industry Practices

Legal Authority: 47 U.S.C. 151; 47 U.S.C. 152; 47 U.S.C. 154(i) to (j); 47 U.S.C. 201(b)

Abstract: In 2009, the FCC launched a public process to determine whether and what actions might be necessary to preserve the characteristics that have allowed the Internet to grow into an indispensable platform supporting our Nation's economy and civic life. After receiving input from more than 100,000 individuals and organizations and several public workshops, this process has made clear that the Internet has thrived because of its freedom and openness—the absence of any gatekeeper blocking lawful uses of the network or picking winners and losers online. The Open Internet Order builds on the bipartisan Internet Policy Statement the Commission adopted in 2005. The Order requires that all broadband providers are required to be transparent by disclosing their network management practices, performance, and commercial terms; fixed providers may not block lawful content, applications, services, or non-harmful devices; fixed providers may not unreasonably discriminate in transmitting lawful network traffic; mobile providers may not block access to lawful Web sites, or applications that compete with their voice or video telephony services; and all providers may engage in “reasonable network management,” such as managing the network to address congestion or security issues. The rules do not prevent broadband providers from offering specialized services, such as facilities-based VoIP; do not prevent providers from blocking unlawful content or unlawful transfers of content; and do not supersede any obligation or authorization a provider may have to address the needs of emergency communications or law enforcement, public safety, or national security authorities. In January of 2014, the DC Circuit in Verizon v. FCC struck down the no-blocking and no-discrimination rules contained in the 2010 Open Internet Order, for the second time invalidating the Commission's attempt to create legally enforceable standards to preserve the open internet. Consequently, the docket has been closed and a new one opened, WC Docket No. 14-28.

Timetable:

Action | Date | FR Cite
NPRM | 11/30/09 | 74 FR 62638
NPRM Comment Period End | 04/26/10
Public Notice | 09/10/10 | 75 FR 55297
Comment Period End | 11/04/10
Order | 09/23/11 | 76 FR 59192
OMB Approval Notice | 09/21/11 | 76 FR 58512
Rules Effective | 11/20/11
Public Notice Petition for Recon | 11/14/11 | 76 FR 74721
Comment Period End | 12/27/11
Next Action Undetermined

Regulatory Flexibility Analysis Required: Yes.

Agency Contact: R. Matthew Warner, Attorney Advisor, Federal Communications Commission, 445 12th Street SW., Washington, DC 20554, Phone: 202 418-2419, Email: matthew.warner@fcc.gov.

RIN: 3060-AJ30

539. Local Number Portability Porting Interval and Validation Requirements (Wc Docket No. 07-244)

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Next Action Undetermined

Regulatory Flexibility Analysis Required: Yes.

Agency Contact: Melissa Kirkel, Attorney-Advisor, Federal Communications Commission, Wireline Competition Bureau, 445 12th Street SW., Washington, DC 20554, Phone: 202 418-7958, Fax: 202 418-1413, Email: melissa.kirkel@fcc.gov.

RIN: 3060-AJ32

540. Electronic Tariff Filing System (WC Docket No. 10-141)

Legal Authority: 47 U.S.C. 151 and 154; 47 U.S.C. 201 to 205; 47 U.S.C. 218 and 222; 47 U.S.C. 225 to 226; 47 U.S.C. 228 and 254; 47 U.S.C. 403

Abstract: Section 402(b)(1)(A)(iii) of the Telecommunications Act of 1996 added section 204(a)(3) to the Communications Act of 1934, as amended, providing for streamlined tariff filings by local exchange carriers. On September 6, 1996, in an effort to meet the goals of the 1996 Act, the Commission released the Tariff Streamlining NPRM, proposing measures to implement the tariff streamlining requirements of section 204(a)(3). Among other suggestions, the Commission proposed requiring LECs to file tariffs electronically. The Commission began implementing the electronic filing of tariffs on January 31, 1997, when it released the Streamlined Tariff Order. On November 17, 1997, the Bureau made this electronic system, known as the Electronic Tariff Filing System (EFTS), available for voluntary filing by incumbent LECs. The Bureau also announced that the use of ETFS would become mandatory for all incumbent LECs in 1998. On May 28, 1998, in the ETFS Order, the Bureau established July 1, 1998, as the date after which incumbent LECs would be required to use ETFS to file tariffs and associated documents. The Commission deferred consideration of establishing mandatory electronic filing for non-incumbent LECs until the conclusion of a proceeding considering the mandatory detariffing of interstate long distance services. On June 9, 2011, the Commission adopted rule revisions to require all tariff filers to file tariffs using ETFS. Carriers were given a 60-day window in order to make their initial filings on ETFS. On October 13, 2011, the Commission announced that all tariff filers should file their initial Base Document and/or Informational Tariff using the ETFS between November 17, 2011, and January 17, 2012. As of January 17, 2012, all carriers are required to use ETFS on a going-forward basis to file their tariff documents.

Timetable:

Action | Date | FR Cite
NPRM | 08/11/10 | 75 FR 48629
NPRM Comment Period End | 09/10/10 |
NPRM Reply Comment Period End | 09/27/10 |
Report and Order | 07/20/11 | 76 FR 43206
Next Action Undetermined

Regulatory Flexibility Analysis Required: Yes.

Agency Contact: Pamela Arluk, Attorney Advisor, Federal Communications Commission, 445 12th Street SW., Washington, DC 20554, Phone: 202 418-1540, Email: pamela.arluk@fcc.gov.

RIN: 3060-AJ41

541. Implementation of Section 224 of the Act; a National Broadband Plan for Our Future (WC Docket No. 07-245, GN Docket No. 09-51)

Legal Authority: 47 U.S.C. 151; 47 U.S.C. 154(i); 47 U.S.C. 154(j); 47 U.S.C. 224

Abstract: In 2010, the Commission released an Order and Further Notice of Proposed Rulemaking that implemented certain pole attachment recommendations of the National Broadband Plan and sought comment with regard to others. On April 7, 2011, the Commission adopted a Report and Order and Order on Reconsideration that sets forth a comprehensive regulatory scheme for access to poles, and modifies existing rules for pole attachment rates and enforcement.

Timetable:

Action | Date | FR Cite
NPRM | 02/06/08 | 73 FR 6879
FNPRM | 07/15/10 | 75 FR 41338
Declaratory Ruling | 08/03/10 | 75 FR 45494
R&O | 05/09/11 | 76 FR 26620
Next Action Undetermined

Regulatory Flexibility Analysis Required: Yes.

Agency Contact: Jonathan Reel, Attorney Advisor, Federal Communications Commission, Wireline Competition Bureau, 445 12th Street SW., Washington, DC 20554, Phone: 202 418-0637, Email: jonathan.reel@fcc.gov.

RIN: 3060-AJ64

542. Rural Call Completion; WC Docket No. 13-39

Legal Authority: 47 U.S.C. 151; 47 U.S.C. 154(i); 47 U.S.C. 201(b); 47 U.S.C. 202(a); 47 U.S.C. 218; 47 U.S.C. 220(a); 47 U.S.C. 257(a); 47 U.S.C. 403

Abstract: The recordkeeping, retention, and reporting requirements in the Report and Order improve the Commission's ability to monitor problems with completing calls to rural areas, and enforce restrictions against blocking, choking, reducing, or restricting calls. The Further Notice of Proposed Rulemaking sought comment on additional measures intended to further ensure reasonable and nondiscriminatory service to rural areas. The Report and Order applies new recordkeeping, retention, and reporting requirements to providers of long-distance voice service that make the initial long-distance call path choice for more than 100,000 domestic retail subscriber lines which, in most cases, is the calling party's long-distance provider. Covered providers are required to file quarterly reports and retain the call detail records for at least six calendar months. Qualifying providers may certify that they meet a Safe Harbor which reduces their reporting and retention obligations, or seek a waiver of these rules from the Wireline Competition Bureau, in consultation with the Enforcement Bureau. The Report and Order also adopts a rule prohibiting all originating and intermediate providers from causing audible ringing to be sent to the caller before the terminating provider has signaled that the called party is being alerted.

Timetable:

Action | Date | FR Cite
NPRM | 04/12/13 | 78 FR 21891
NPRM Comment Period End | 05/28/13 |
R&O and FNPRM | 12/17/13 | 78 FR 76218
PRA 60 Day Notice | 12/30/13 | 78 FR 79448
FNPRM Comment Period End | 02/18/14 |
PRA Comments Due | 03/11/14 |
Next Action Undetermined

Regulatory Flexibility Analysis Required: Yes.

Agency Contact: Jean Ann Collins, Senior Counsel, Federal Communications Commission, 445 12th Street SW., Washington, DC 20554, Phone: 202 418-2792, Email: jeanann.collins@fcc.gov.

RIN: 3060-AJ89

543. Rates for Inmate Calling Services; WC Docket No. 12-375

Legal Authority: 47 U.S.C. 151; 47 U.S.C. 154(i) to (j); 47 U.S.C. 225; 47 U.S.C. 276; 47 U.S.C. 303(r); 47 CFR 64

Abstract: In the Report and Order portion of this document, the Federal Communications Commission adopts rule changes to bring high interstate inmate calling service (ICS) rates into compliance with the statutory mandate of being just, reasonable, and fair. In the Report and Order, the Commission requires that ICS rates be cost-based and concludes that site commission payments are not a cost of providing the ICS service. The Commission addresses ICS rates and adopts both interim safe harbor rates and per-minute interim interstate rate caps. The Commission requires that ancillary service charges be cost-based, and concludes that rates for the use of TTY equipment for the deaf and hard-of-hearing may not be any higher than rates for other ICS services. Finally, the Commission addresses collect-calling only requirements at correctional facilities, requires an annual certification filing, and initiates a mandatory data collection. In the Further Notice portion of the item, the Commission asks a number of questions about the future of ICS rate reform.

Timetable:

Action | Date | FR Cite
NPRM | 01/22/13 | 78 FR 4369
FNPRM | 11/13/13 | 78 FR 68005
R&O | 11/13/13 | 78 FR 67956
FNPRM Comment Period End | 12/20/13 |
FNPRM Reply Comment Period End | 01/13/14 |
Announcement of Effective Date | 06/20/14 | 79 FR 33709
Next Action Undetermined

Regulatory Flexibility Analysis Required: Yes.

Agency Contact: Lynne H Engledow, Asst. Division Chief, Pricing Policy Division, Federal Communications Commission, Wireline Competition Bureau, 445 12th Street SW., Washington, DC 20554, Phone: 202 418-1520, Fax: 202 418-1567, Email: lynne.engledow@fcc.gov.

RIN: 3060-AK08

544. • Protecting and Promoting the Open Internet; (WC Docket No. 14-28)

Legal Authority: 47 U.S.C. 151 ; 47 U.S.C. 151 ; 47 U.S.C. 154(i) to (j); 47 U.S.C. 201(b)

Abstract: In January of 2014, the D.C. Circuit in Verizon v. FCC struck down the no-blocking and no-discrimination rules contained in the 2010 Open Internet Order, for the second time invalidating the Commission's attempt to create legally enforceable standards to preserve the open internet. As the Commission made clear in the 2010 Order, the Internet has thrived because of its freedom and opennessthe absence of any gatekeeper blocking lawful uses of the network or picking winners and losers online. However, following Verizon, no enforceable rules remained in place to prevent broadband service providers from engaging in anti-competitive behaviors, such as blocking consumer access to competing content or services. In response, on May 15, 2014, the Commission initiated this proceeding to determine, in light of the court's guidance in Verizon, the appropriate regulatory framework to protect and promote internet openness. The Commission proposed to retain the definitions and scope of the 2010 rules, adopting the text of the 2010 no-blocking rule under a revised rationale while enhancing the transparency rule that remained in place after Verizon. Additionally, the Commission proposed to add an additional layer of protection for conduct that would otherwise be permissible under the no-blocking rule, which would require that broadband service providers adhere to an enforceable legal standard of commercially reasonable practices. The Commission also sought comment on the proper legal authority on which to base these rules.

Timetable:

Action | Date | FR Cite
NPRM | 07/01/14 | 79 FR 37448
NPRM Comment Period End | 08/15/14 |
NPRM Reply Comment Period End | 09/10/14 |
Next Action Undetermined

Regulatory Flexibility Analysis Required: Yes.

Agency Contact: Zachary Ross, Law Clerk, Competiton Policy Div., WCB, Federal Communications Commission, 445 12th Street SW., Washington, DC 20554, Phone: 202 418-1033, Email: zachary.ross@fcc.gov.

RIN: 3060-AK21

[FR Doc. 2014-28989 Filed 12-19-14; 8:45 am]

BILLING CODE 6712-01-P